DEPARTMENT OF THE INTERIOR

Fish and Wildlife Service

50 CFR Part 20

RIN 1018-AH79

Migratory Bird Hunting; Proposed Frameworks for Early-Season Migratory Bird Hunting Regulations and Regulatory Alternatives for the 2001-02 Duck Hunting Season; Notice of Meeting

AGENCY: Fish and Wildlife Service, Interior.

ACTION: Proposed rule; supplemental.

SUMMARY: The U.S. Fish and Wildlife Service (hereinafter Service or we) is proposing to establish the 2001-02 early-season hunting regulations for certain migratory game birds. We annually prescribe frameworks, or outer limits, for dates and times when hunting may occur and the maximum number of birds that may be taken and possessed in early seasons. Early seasons generally open prior to October 1, and include seasons in Alaska, Hawaii, Puerto Rico, and the U.S. Virgin Islands. These frameworks are necessary to allow State selections of final seasons and limits and to allow recreational harvest at levels compatible with population status and habitat conditions. This supplement to the proposed rule of April 30, 2001, also provides the regulatory alternatives for the 2001-02 duck hunting season.

DATES: You must submit comments on the proposed migratory bird hunting-season frameworks for Alaska, Hawaii, Puerto Rico, the Virgin Islands, and other early seasons by August 3, 2001, and for the forthcoming proposed late-season frameworks by September 7, 2001.

ADDRESSES: Send your comments on these proposals to the Chief, Division of Migratory Bird Management, U.S. Fish and Wildlife Service, Department of the Interior, room 634—Arlington Square, 1849 C Street, NW, Washington, DC 20240. All comments received, including names and addresses, will become part of the public record. You may inspect comments during normal business hours in room 634, Arlington Square Building, 4401 N. Fairfax Drive, Arlington, VA.

FOR FURTHER INFORMATION CONTACT: Jonathan Andrew, Chief, or Ron W. Kokel, Division of Migratory Bird Management, U.S. Fish and Wildlife Service, (703) 358-1714.

SUPPLEMENTARY INFORMATION:

Regulations Schedule for 2001

On April 30, 2001, we published in the Federal Register (66 FR 21298) a proposal to amend 50 CFR part 20. The proposal provided a background and overview of the migratory bird hunting regulations process, and dealt with the establishment of seasons, limits, and other regulations for migratory game birds under §§ 20.101 through 20.107, 20.109, and 20.110 of subpart K. On June 14, 2001, we published in the Federal Register (66 FR 32297) a second document providing supplemental proposals for early-and late-season migratory bird hunting regulations frameworks and the proposed regulatory alternatives for the 2001-02 duck hunting season. The June 14 supplement also provided detailed information on the 2001-02 regulatory schedule and announced the Service Migratory Bird Regulations Committee (SRC) and Flyway Council meetings.

This document, the third in a series of proposed, supplemental, and final rulemaking documents for migratory bird hunting regulations, deals specifically with proposed frameworks for early-season regulations and the final regulatory alternatives for the 2001-02 duck hunting season. It will lead to final frameworks from which States may select season dates, shooting hours, and daily bag and possession limits for the 2001-02 season. We have considered all pertinent comments received through July 6, 2001, on the April 30 and June 14, 2001, rulemaking documents in developing this document. In addition, new proposals for certain early-season regulations are provided for public comment. Comment periods are specified above under

DATES. We will publish final regulatory frameworks for early seasons in the Federal Register on or about August 20, 2001.

Service Migratory Bird Regulations Committee Meetings

Participants at the June 20-21, 2001, meetings reviewed information on the current status of migratory shore and upland game birds and developed 2001-02 migratory game bird regulations recommendations for these species plus regulations for migratory game birds in Alaska, Puerto Rico, and the U.S. Virgin Islands; special September waterfowl seasons in designated States; special sea duck seasons in the Atlantic Flyway; and extended falconry seasons. In addition, we reviewed and discussed preliminary information on the status of waterfowl as it relates to the development and selection of the regulatory packages for the 2001-02 regular waterfowl seasons. Participants at the previously announced August 1-2, 2001, meetings will review information on the current status of waterfowl and develop recommendations for the 2001-02 migratory game bird regulations pertaining to regular waterfowl seasons and other species and seasons not previously discussed at the early season meetings. In accordance with Department of the Interior policy, these meetings are open to public observation and you may submit written comments to the Director of the Service on the matters discussed.

Population Status and Harvest

The following paragraphs provide preliminary information on the status of waterfowl and information on the status and harvest of migratory shore and upland game birds.

May Breeding Waterfowl and Habitat Survey

Habitat conditions in the traditional survey area were variable, and the estimate of May ponds (U.S. and Prairie Canada combined) is up (4.6 million ± 0.1 million, +18 percent) compared to 2000, and slightly below (−6 percent), but not statistically different from the long-term average. Continued drought produced fair to poor conditions in most of Alberta, central and southern Saskatchewan, and eastern Montana. By contrast, North and South Dakota generally had good to excellent water conditions, with the best conditions in the eastern portions of these States, and drier conditions to the north and west. Nesting cover in the Dakotas was in above-average condition. Southern Manitoba and extreme southeastern Saskatchewan have had higher than normal water conditions for the past 2 years, and this water, along with above-normal precipitation due to an early, snowy winter, produced excellent habitat for breeding ducks. Average to above-average precipitation also made for excellent wetland conditions across northern Manitoba and Saskatchewan. The northernmost portion of Alberta was the exception to the record drought and poor wetland conditions in the rest of the province, as above-average winter and spring precipitation filled nearly all available wetland basins. Good conditions for breeding ducks prevailed in the Northwest Territories, except for a small northern area that was rated only fair due to late spring ice conditions that reduced available breeding habitat for early-nesting species. Overall, conditions were good in the traditional survey area, and average to above-average waterfowl production is expected.

In Alaska, breeding conditions depend largely on the timing of spring, as wetland conditions are less variable than on the prairies. Although winter temperatures were mild, spring was late, and waterfowl production will likely be below average to the north and west, and average to the south and east.

In the eastern survey area, conditions were variable but generally good. Southern Ontario and Northern New York had an early spring, and with wetland basins nearly full, the outlook for breeding ducks is good. Spring was also early in Quebec, with good to excellent habitat in the central and northern portions. However, southern Quebec was drier with conditions ranging from fair to poor. In Maine and the Maritime provinces, spring was late, with lower than normal temperatures, but above-average precipitation, and habitat conditions were good. Overall, eastern habitats were in good condition, with average to above-average production expected.

The 2001 total duck population estimate for the traditional survey area was 36.1 ± 0.6 million birds, 14 percent below last year's near-record estimate of 41.8 ± 0.7 million birds, but still 9 percent above the 1955-2000 average. Mallard abundance was 7.9 ± 0.2 million, which is 17 percent below last year's estimate but still 5 percent above the 1955-2000 average. Blue-winged teal abundance was estimated at 5.8 ± 0.3 million. This is 23 percent below last year's record estimate of 7.4 million, but 29 percent above the 1955-2000 average. Gadwall (2.7 ± 0.1 million, +66 percent), green-winged teal (2.5 ± 0.2 million, +39 percent), and northern shovelers (3.3 ± 0.2 million, +60 percent) all remained above their long-term averages, while American wigeon (2.5 ± 0.1 million), redheads (0.7 ± 0.07 million), and canvasbacks (0.6 ± 0.05 million) did not differ from their long-term averages. Scaup (3.7 ± 0.2 million, −31 percent) and northern pintail (3.3 ± 0.3 million, −23 percent), were again below their long-term average.

The 2000 total duck population estimate for the eastern survey area was 3.3 ± 0.2 million birds, similar to last year's estimate of 3.2 ± 0.3 million birds. Abundances of individual species were similar to those of last year, with the exception of ring-necked ducks (353.0 ± 32 thousand, −43 percent) and buffleheads (95.0 ± 44 thousand, +93 percent). Buffleheads, goldeneyes and lesser scaup were above the 1996-2000 average in the east. Green-winged teal and ring-necked ducks were below the 1996-2000 average, and other species were similar to their long-term averages.

Status of Teal

Blue-winged teal abundance this spring was 5.8 ± 0.3 million, down from last year's record high of 7.4 ± 0.4 million, but 29 percent above the 1955-2000 average. This population size remains above the 4.7 million needed to trigger the liberal 16-day teal season in the Central and Mississippi Flyways. Green-winged teal abundance was estimated at 2.5 ± 0.2 million, which is 21 percent below last year's estimate, but 39 percent above the long-term average.

The 2000-01 season was the third consecutive year of an extended (16 days vs. 9 days) September teal season in the Central and Mississippi Flyways. Preliminary harvest estimates from last year's September teal season in the Mississippi Flyway indicate that harvest increased from 413,000 to 504,600 teal, an increase of 22 percent over the 1999 September teal season. The vast majority of these were blue-winged teal (483,000), and the remainder were green-winged teal (21,600). Preliminary estimates in the Central Flyway indicate a harvest of 126,600 birds, similar to the 126,000 estimated for the 1999 September teal season. In the Central Flyway, green-winged teal accounted for approximately 12 percent of the harvest (15,400), and the remainder (111,200) were blue-winged teal. The combined estimated harvest in the Mississippi and Central Flyways was 631,200 cinnamon, blue- and green-winged teal, which is 17 percent greater than the 1999 estimated September teal season harvest.

Last year, the Atlantic Flyway participated in the third year of its 3-year experimental September teal season. Six States harvested an estimated 31,000 blue- and green-winged teal, similar to the 32,000 harvested during 1999. Additionally, as part of its special early wood duck/teal season, Florida harvested approximately 10,100 blue-winged teal in 2000. The Atlantic Flyway also completed the third year of its Service's required spy-blind assessment of attempt rates at non-target species. Results indicate that the average non-target attempt rate for 2000 of 18 percent was virtually identical to those in other years (19 percent in 1998, and 24 percent in 1999). Although the data from the required 3-year study has been collected, results are incomplete at this time. We will conduct a full assessment of non-target attempt rates and review the further continuation of the season. However, we note that the Atlantic Flyway Council did not recommend renewing teal seasons in North Carolina, Pennsylvania, South Carolina, and West Virginia (see iii. September Teal Seasons under 1. Ducks).

Sandhill Cranes

The Mid-Continent Population of Sandhill Cranes has generally stabilized at comparatively high levels, since increases that were recorded in the 1970-80s. The Central Platte River Valley, Nebraska, spring index for 2001, uncorrected for visibility, was 396,000 cranes. The photo-corrected 3-year average for 1998-2000 was 435,283, which is within the established population-objective range of 343,000-465,000 cranes. All Central Flyway States, except Nebraska, allowed crane hunting in portions of their respective States in 2000-01. About 7,500 hunters participated in these seasons, which was 13 percent higher than the number that participated in the previous year's seasons. About 16,850 cranes were harvested in the Central Flyway during 2000-01 seasons, which was similar to estimated harvests for the previous year. Retrieved harvests in the Pacific Flyway, Canada, and Mexico were estimated to be about 13,500 cranes for the 2000-01 period. The total North American sport harvest, including crippling losses, was estimated to be about 34,600, which was about 2 percent lower than the previous year's estimates. The long-term trend analysis for the Mid-Continent Population during 1982-2000 indicates that harvests have been increasing at a higher rate than the trend in population growth over the same period.

The fall 2000 pre-migration survey estimate for the Rocky Mountain Population of sandhill cranes was 19,990, which was similar to the previous year's estimate of 19,501. Limited special seasons were held during 2000 in portions of Arizona, Idaho, Montana, New Mexico, Utah, and Wyoming, resulting in a record high harvest of 810 cranes.

Woodcock

Singing-ground and Wing Collection surveys were conducted to assess the population status of the American woodcock (Scolopax minor). Singing-ground Survey data from 2001 indicate that the number of displaying woodcock in the Eastern Region was not significantly different (P>0.10) from 2000 levels, although the point estimate of the trend was negative. In the Central Region, there was a 12.9 percent decrease (P<0.05) in the number of woodcock heard displaying, compared to levels observed in 2000. Trends from the Singing-ground Survey during 1991-2001 were negative (−2.6 and −2.5 percent per year for the Eastern and Central regions, respectively; P<0.01). There were long-term (1968-01) declines (P<0.01) of 2.5 percent per year in the Eastern Region and 1.6 percent per year in the Central Region.

The 2000 recruitment index for the Eastern Region (1.4 immatures per adult female) was 27 percent higher than the 1999 estimate, but was 18 percent below the long-term regional average. The recruitment index for the Central Region (1.2 immatures per adult females) was similar to 1999, but was 29 percent below the long-term regional average. The index of daily hunting success in the Eastern Region decreased from 2.1 woodcock per successful hunt in 1999 to 2.0 woodcock per successful hunt in 2000, and seasonal hunting success decreased 10 percent, from 9.3 to 8.4 woodcock per successful hunter in 1999 and 2000, respectively. In the Central Region, the daily success index decreased 5 percent from 2.1 woodcock per successful hunt in 1999 to 2.0 in 1998; and seasonal hunting success decreased 2 percent from 10.6 to 10.4 woodcock per successful hunter.

Band-Tailed Pigeons and Doves

While a significant decline in the Coastal population of band-tailed pigeons occurred between 1968-2000 as indicated by the Breeding Bird Survey (BBS), no trend was indicated over the most recent 10 years. Additionally, mineral site counts at 10 selected sites in Oregon indicate a steady increase over the past 10 years. The count in 2000 was 45 percent above the previous 32-year average. Call-count surveys conducted in Washington showed a nonsignificant decline between 1975-2000 and a nonsignificant increase between 1996-2000. Washington has opted not to select a hunting season for bandtails since 1991. The harvest of Coastal pigeons is estimated to be about 17,000 birds out of a population of about 3 million. The Interior band-tailed pigeon population is stable with no trend indicated by the BBS over the short- or long-term periods. The preliminary 2000-01 harvest estimate from the Harvest Information Program was 4,800 birds.

Analyses of Mourning Dove Call-count Survey data indicated significant declines in doves heard over the most recent 10 years and the entire 36 years of the survey in the Central and Western Management Units. In the Eastern Unit, there was a significant decline over 10 years while no significant decline was noted over 36 years. A project has been funded recently to develop mourning dove population models for each unit to provide guidance in what needs to be done to improve our decision-making process with respect to harvest management.

White-winged doves in Arizona are maintaining a fairly stable population since the 1970's. Between 2000-01, the average number of doves heard per route decreased from 30.8 to 27.5. A low harvest (123,000 in 2000) is being maintained compared with birds taken several decades ago. In Texas, the phenomenon of the white-winged dove expansion continues as they are found throughout Texas except for a large section in the northeast part of the State in the Piney Woods. North of their historical range, whitewings primarily inhabit urban areas. In 2001, the population of white-wing doves in the Lower Rio Grande Valley decreased 11 percent due to drought conditions to 453,000 birds; in Upper South Texas, the count increased 7 percent to 1,072,000; and, in West Texas, the count increased 11 percent to 36,700. A more inclusive count of whitewings in San Antonio indicated an estimate of over 1 million birds. Whitewings are increasing both in population density and expanding into suburban areas and cities where they have not previously existed. Further, hunting does not appear to be having any effect upon these northern urban nesters. White-wing dove nesting has been documented in Arkansas, Oklahoma, and Missouri, and they have been reported in Kansas, Nebraska, Iowa, Indiana, Minnesota, North Carolina, Ontario, and Newfoundland.

White-tipped doves are maintaining a relatively stable population in the Lower Rio Grande Valley of Texas. They are most abundant in cities and, for the most part, not available to hunting. The count in 2001 was 22 percent below that of 2000.

Review of Public Comments

The preliminary proposed rulemaking (April 30 Federal Register) opened the public comment period for migratory game bird hunting regulations. The supplemental proposed rule (June 14 Federal Register) defined the public comment period for the proposed regulatory alternatives for the 2001-02 duck hunting season. The public comment period for the proposed regulatory alternatives ended July 6, 2001. Early-season comments and comments pertaining to the proposed alternatives are summarized below and numbered in the order used in the April 30 Federal Register document. Only the numbered items pertaining to early-seasons issues and the proposed regulatory alternatives for which written comments were received are included. Consequently, the issues do not follow in direct numerical or alphabetical order.

We received recommendations from all four Flyway Councils. Some recommendations supported continuation of last year's frameworks. Due to the comprehensive nature of the annual review of the frameworks performed by the Councils, support for continuation of last year's frameworks is assumed for items for which no recommendations were received. Council recommendations for changes in the frameworks are summarized below. We seek additional information and comments on the recommendations in this supplemental proposed rule. New proposals and modifications to previously described proposals are discussed below. Wherever possible, they are discussed under headings corresponding to the numbered items in the April 30, 2001, Federal Register document.

1. Ducks

Categories used to discuss issues related to duck harvest management are: (A) Harvest Strategy Considerations, (B) Regulatory Alternatives, (C) Zones and Split Seasons, and (D) Special Seasons/Species Management. The categories correspond to previously published issues/discussion, and only those containing substantial recommendations are discussed below.

A. Harvest Strategy Considerations

Council Recommendations: The Upper- and Lower-Region Regulations Committees of the Mississippi Flyway Council recommended that the Adaptive Harvest Management (AHM) Working Group and the Service consider the following actions when AHM regulations packages are reconsidered:

(1) Eliminate the “very restrictive” option.

(2) Replace open cells with the “restrictive” alternative to a population level of ≤4.5 million. Below this level, year-specific decisions on closed seasons would be based on both biological and sociological considerations.

(3) Evaluate the influence of year-to-year constraints on regulations increments on AHM performance.

(4) Strongly consider limiting increments of year-to-year change to single regulations “steps.”

(5) Formally consider the role of hunter satisfaction in the revision of the harvest management objective or the regulation packages.

Service Response: As we stated in the June 14, 2001, Federal Register (66 FR 32297), we recognize that periodic changes to the protocols for adaptive harvest management will be necessary to accommodate changing biological, social, and administrative needs. Revisions of the nature recommended by the Mississippi Flyway Council potentially have profound implications, however, as they involve specification of the set of regulatory alternatives, the harvest-management objective(s), and associated regulatory constraints (e.g., minimizing year-to-year changes in regulations). The AHM Working Group, comprised of both Service and Flyway Council representatives, currently is exploring the implications of these recommendations. We will consider the changes suggested by the Mississippi Flyway Council once these investigations are complete, and the results communicated to all interested parties.

B. Regulatory Alternatives

Council Recommendations: The Atlantic Flyway Council recommended that the regulations packages for 2001 be the same as those in 2000, except for an experimental framework opening date of the Saturday nearest September 24 and a framework closing date of the last Sunday in January with no offsets (reduced or restricted bag limits or reduction in season length) for the 2001-03 duck seasons in the “moderate” and “liberal” alternatives. The Council further recommended that the framework dates be applicable either Statewide or in zones and that the Service use the evaluation of the framework-date extensions for the next three years as a basis for establishing future framework dates.

The Upper-Region Regulations Committee of the Mississippi Flyway Council recommended that the regulations alternatives from 2000 be used in 2001. The Lower-Region Regulations Committee of the Mississippi Flyway Council recommended that the regulations packages for 2001 be the same as those in 2000, except that the framework opening and closing dates would be the Saturday nearest September 24 through the last Sunday in January, and there would be no offsets in season length or bag limit.

The Central Flyway Council recommended 2001-02 duck regulations packages and species/sex restrictions for the Central Flyway that are the same as those used in 2000-01, except for a framework opening date of the Saturday closest to September 24th in the “liberal” and “moderate” AHM regulations alternatives with no offset penalties. The framework closing date in the Central Flyway would remain the Sunday nearest January 20th.

The Pacific Flyway Council preferred that regulatory alternatives remain as adopted in 1999 and 2000 but recommends that if season extensions are allowed (without offsets), that they be classified as an experiment for 3 years. At the end of the experimental period, the distribution of mallard harvest during the experimental period shall be compared to the harvest distribution during the period of stabilized regulations (1979-84). If the distribution of mallard harvest has changed more than 5 percent between these two periods, AHM regulatory packages should be re-configured to realign mallard harvest distribution with the distribution that occurred in 1979-84. The Council also recommended a framework opening date of the Saturday nearest September 24 and a framework closing date of the last Sunday in January with no offsets for the 2001-03 duck seasons in the “moderate” and “liberal” alternatives. The Council further recommended that the framework dates be applicable either Statewide or in zones. The Council requested that the Service use the evaluation of the framework-date extensions for the next 3 years as a basis for establishing future framework dates.

Written Comments: The National Flyway Council (NFC), in a letter signed by the Atlantic, Central, and Pacific Flyway Councils and the Lower-Region Regulations Committee of the Mississippi Flyway Council, recommended an experimental framework opening date of the Saturday nearest September 24 and a framework closing date of the last Sunday in January with no offsets for the 2001-03 duck seasons in the “moderate” and “liberal” alternatives. The NFC further recommended that the framework dates be applicable either Statewide or in zones and that the Service use the evaluation of the framework-date extensions for the next 3 years as a basis for establishing future framework dates.

The Atlantic Flyway Council; Central Flyway Council; Florida Fish and Wildlife Conservation Commission; Georgia Wildlife Resources Division; Maryland Forest, Wildlife and Heritage Service; South Carolina Department of Natural Resources; South Dakota Department of Game, Fish, and Parks; Virginia Department of Game and Inland Fisheries; West Virginia Division of Natural Resources; and Wisconsin Department of Natural Resources expressed support for the NFC's recommendation. All urged implementation of the NFC's proposed changes this year.

A number of duck clubs and individual waterfowl hunters in Utah opposed granting any extension to framework dates because of concern for impacts to waterfowl seasons in Utah.

Service Response: We recognize and appreciate the efforts of the Flyway Councils to seek an acceptable approach to framework-date extensions for duck hunting. We also recognize that many States feel strongly about the framework-date issue, and would like to see changes implemented for the 2001-02 hunting season. We believe, however, that there are a number of critical technical and administrative issues that still need to be resolved before framework-date extensions could be implemented successfully.

An important issue involves the uncertainty about changes in mallard harvest rates that might occur with implementation of framework-date extensions. As stated in the June 14, 2001 Federal Register (66 FR 32299), we believe that this uncertainty can be addressed most effectively using an adaptive-management approach. This approach would be designed to help identify the effects of framework-date extensions, while ensuring that we can account for uncertainty surrounding harvest and population impacts in each regulatory decision. A necessary element of the adaptive approach is the specification of two or more alternative hypotheses about the change in mallard harvests that might be associated with widespread application of extended framework dates. These alternative hypotheses (and associated measures of credibility) have not yet been specified and agreed upon. We believe that the help of the AHM Working Group will be needed to specify these alternatives, to explore their management implications, and to work out other technical details regarding implementation.

Also needed for successful application of the adaptive approach is a reliable monitoring program for estimating realized harvest rates of mallards. Such a program does not exist at this time because of uncertainty about the rate at which hunters report band recoveries. This uncertainty resulted from the introduction in 1995 of a toll-free phone number for reporting band recoveries, which is a key feature of a campaign designed to increase band-reporting rates. We currently are developing plans and seeking funding to estimate band-reporting rates, but the program will not be ready for implementation this year. And we respectfully disagree with the contention that framework-date extensions could be evaluated effectively without current estimates of band-reporting rates.

We also reiterate that proposed changes to traditional framework dates must consider the potential for adverse biological impacts to species other than mallards, such as wood ducks, and especially those currently below objective levels (e.g. pintails, scaup). While we recognize that such assessments cannot be done with the same rigor as those for mallards, compilation and consideration of relevant harvest and population data for other species of management interest is nonetheless necessary.

Finally, there are a number of administrative and procedural issues involved in extending framework dates for duck hunting. Under current framework dates (i.e., approximately October 1 and January 20), we propose the set of regulatory alternatives for consideration during the upcoming duck-hunting season in late May/early June with the comment period normally closing in early July, shortly after the early-season meeting of the SRC. The regulatory alternatives are normally finalized in the Proposed Early-Season Frameworks (this document), which is published in mid to late July. Following finalization of the regulatory alternatives, one of the alternatives is proposed for the upcoming hunting season at the late-season SRC meeting in early August, and provided for public comment in the Proposed Late-Season Frameworks, normally published in mid-to late August. Following a short comment period, the Final Late-Season Frameworks are published in mid to late September.

With extended framework dates (i.e., approximately September 24 and January 31), the primary procedural problem is with the framework opening date (which some years could be as early as September 21). If the opening date is earlier than the Saturday nearest October 1, because of legally-mandated public comment procedures, review and clearance by the Office of Management and Budget (OMB), and publishing schedules, the establishment of frameworks for duck seasons and State selections of seasons must be shifted from the late-season regulations process to the early-season regulations process. Under this scenario, and with the current process, we would still propose the set of regulatory alternatives in late May or early June. However, the Proposed Early-Season Frameworks would have to contain both the final set of regulatory alternatives and the proposed alternative for the upcoming season. This would mean that we would have to select one of the alternatives not only before the set of regulatory alternatives was finalized, but also before the comment period on the proposed set of alternatives closes. Procedurally and legally, this is not possible in any year. A solution to this problem might be to propose the set of regulatory alternatives in the initial Federal Register document (published in March prior to the spring Flyway Council meetings), and finalize it in late May or early June. Of course, it is too late to implement this solution for this year.

Lastly, another problem with extending the framework dates unique to this year (2001) relates to the need for adequate public notice. The schedule of meetings and intended Federal Register publication dates for early-season and late-season regulations was published in the initial proposed rule to establish hunting seasons in 2001. Frameworks for duck seasons have always been a part of the late-season regulations process, and shifting the establishment of duck-season frameworks to the early-season regulations process is a sufficiently major action that public notification of the change likely would be necessary.

We are prepared to work diligently with the Flyway Councils and States to address these outstanding technical and administrative issues. Until these issues are resolved, however, we cannot offer framework-date extensions. Therefore, for the 2001-02 hunting season, there will be no modifications to the four regulatory alternatives used last year (see accompanying table for specifics). Alternatives are specified for each Flyway and are designated as “VERY RES” for the very restrictive, “RES” for the restrictive, “MOD” for the moderate, and “LIB” for the liberal alternative. We will propose the choice of regulatory alternative for the 2001-02 hunting season following the August 1-2 meeting of the SRC.

C. Zones and Split Seasons

Council Recommendations: The Atlantic Flyway Council recommended that the State of Vermont be allowed to extend the New Hampshire Interior Zone boundary to the Vermont side of the Connecticut River without losing the ability to split their duck season.

Written Comments: The Maine Department of Inland Fisheries and Wildlife and the Wisconsin Department of Natural Resources expressed displeasure with the Service's decision not to make any changes in the 1996 guidelines. More specifically, the Flyway Councils had requested that the guidelines allow States the option of three zones and two-way splits.

Service Response: The guidelines for zones/split seasons for 2001-05 were finalized during the late-season regulations process last year (September 27, 2000, Federal Register (65 FR 58152)). We do not require Council recommendations for zone/split changes and plan to review all of the proposed changes in zones and splits, including those presented by the Atlantic Flyway Council above. We will work with individual States regarding changes to current zone/split arrangements relative to those guidelines and will respond to individual State zone and split proposals should inconsistencies with the previously approved guidelines arise.

D. Special Seasons/Species Management

iii. September Teal Seasons

Council Recommendations: The Atlantic Flyway Council recommended that States that have participated in the recent experimental September teal seasons and met the required criteria (Delaware, Maryland, Virginia, and Georgia) be offered an operational September teal season, beginning in 2001. The recommended season would run for 9 consecutive days during September 1-30, with a bag limit not to exceed 4 teal, whenever the breeding population of blue-winged teal exceeds 3.3 million. Delaware, Georgia, and Virginia would have shooting hours between one-half hour before sunrise to sunset, while Maryland would be between sunrise and sunset.

The Atlantic Flyway Council also recommended that Florida be offered an operational September teal season. The Council pointed out that Florida has requested and would prefer continuation of its current September teal/wood duck season, which the Council has previously supported. If the Service carries through with its intent to discontinue the current September teal/wood duck season, this recommendation would allow Florida's current season to be replaced by an operational September teal season. Florida's teal season would begin in 2001 and be structured similar to teal seasons offered in other Atlantic Flyway States (9 consecutive days during September 1-30, with a bag limit of no more than 4 teal), with shooting hours of one-half hour before sunrise to sunset, whenever the blue-winged teal breeding population exceeds 3.3 million.

The Central Flyway Council recommended continuation of the 16-day September teal season contingent upon acceptable May breeding population estimates of blue-winged teal (>4.7 million).

Service Response: We support the continuation of a 9-day special teal season in the Atlantic Flyway for the States of Delaware, Maryland, Virginia, and Georgia during 2001-02, until a final report on the 3-year experimental period is prepared and submitted. With regard to the Florida proposal, we support approval of an experimental 9-day special teal season for 2001-02, as requested in lieu of their teal/wood duck season. Assessment of the cumulative impacts of this season with those in other Atlantic Flyway States should be included in the final report. We recognize that hunter performance evaluations associated with species-specific seasons in Florida have already been conducted, so these requirements are waived.

We support continuation of the 16-day special teal season in the Central and Mississippi Flyways, since it is consistent with the harvest strategy adopted in 1998. We also note that we requested a report reviewing the data from the first 3 years and look forward to receiving the report next year.

iv. September Teal/Wood Duck Seasons

Council Recommendations: The Upper-Region Regulations Committee of the Mississippi Flyway Council recommended that Kentucky's and Tennessee's September duck seasons be continued on an experimental basis for 3 years with increased monitoring. The Lower-Region Regulations Committee of the Mississippi Flyway Council recommended that Kentucky's and Tennessee's September duck seasons be given operational status in their current format under the early season regulation frameworks. As a condition of operational status, Kentucky and Tennessee would maintain wood duck population monitoring and banding efforts at levels consistent to that done during the period of the Wood Duck Initiative (1991-96).

Service Response: The Service grants operational status to September teal/wood duck seasons in the States of Florida, Kentucky, and Tennessee. Operational status is contingent on the ability of the three States to continue with monitoring efforts put forth during the Wood Duck Initiative. The September teal/wood duck season in all three States will be comprised of a 5-day season, with a daily bag limit of four birds, no more than two of which can be wood ducks. With respect to expansion of this season to other States in the Southern and Southeastern Reference Areas, such States may avail themselves of a September teal/wood duck season in lieu of a September teal season, provided that population-monitoring programs throughout the respective Reference Area are in place and are meeting the requirements outlined in the final report of the wood duck Initiative. The monitoring requirements were developed in cooperation with the Atlantic and Mississippi Flyway Councils and their Technical Sections, and were unanimously adopted by the Councils.

v. Youth Hunt

Council Recommendations: The Atlantic Flyway Council recommended that the Service allow States to hold a youth waterfowl hunt on 2 consecutive hunting days.

Service Response: We concur.

4. Canada Geese

A. Special Seasons

Council Recommendations: The Atlantic Flyway Council recommended that the framework closing date for September Canada goose hunting seasons throughout upstate New York and Vermont be September 25, beginning in 2001, and that the September resident goose season framework dates in Rhode Island be extended from September 25 to September 30. The Council further recommended that the daily bag limit during September Canada goose seasons be increased to eight with no possession limit beginning with the 2001-02 hunting season.

The Upper-Region Regulations Committee of the Mississippi Flyway Council supported the development of comprehensive harvest management strategies for Canada geese throughout the Flyway that includes caution when expanding seasons impacting populations of concern as well as removing constraints when not warranted. The Lower-Region Regulations Committee of the Mississippi Flyway Council urged using caution in changing or expanding special goose seasons.

The Pacific Flyway Council recommended that the experimental portion (the period after September 15) of Northwest Oregon's September goose season related to the Pacific population of western Canada geese, be made operational.

Service Response: We support the framework changes in New York, Vermont, and Rhode Island, and approve operational status for the season in Oregon after September 15. However, we do not support the Atlantic Flyway's recommended bag limit increase from 5 to 8 for these special seasons. The requested increase is in conflict with the previously established criteria for special Canada goose seasons (August 29, 1995, Federal Register (60 FR 45020); bag and possession limits of 5 and 10, respectively). Additionally, this proposal did not gain support from the other Flyway Councils. We encourage further discussion within and among Councils regarding nationwide changes in bag limits. We also suggest that proposals of this nature be provided to the Service at the appropriate time during the review of the Environmental Impact Statement on management of resident Canada goose populations.

Regarding the Upper-and Lower-Region Regulation Committees' concern for cumulative impacts of special-season harvests on migrant Canada goose populations of concern, we are aware of the Committees' concern and are monitoring the harvests during these seasons.

B. Regular Seasons

Council Recommendations: The Upper- and Lower-Region Regulations Committees of the Mississippi Flyway Council recommended the 2001 regular goose season opening date be as early as September 16 throughout Michigan and Wisconsin and September 15 in Missouri and Iowa.

The Pacific Flyway Council recommended that the flyway-wide prohibition of take of Aleutian Canada geese be removed since publication of the final rule removing this goose from the List of Endangered and Threatened Species. Existing special management areas in Alaska, Oregon, and California will remain closed to take of Canada geese until a population objective and harvest strategy are established by the Council, as indicated in the Flyway Management Plan.

Service Response: We support the earlier regular Canada goose season opening dates in Michigan and Wisconsin. Both States were granted exceptions to the general framework opening date several years ago to assist with the management of migrant populations of Canada geese.

We do not support the Mississippi Flyway recommendation for moving the opening date of the regular Canada goose season to September 15 in Missouri and Iowa. These extensions are intended to increase pressure on resident geese. Past experience has indicated that seasons during September 1-15 generally are effective at targeting resident geese, but later seasons can be comprised of a higher proportion of non-target goose stocks. Additionally, we note that, under existing criteria for special Canada goose seasons, Missouri and Iowa have the option of holding seasons during September 1-15 without additional evaluation, or during September 16-30 with appropriate evaluations. We believe that these additional tools, which are already available to all States in the Flyway, should be used at the present time to address resident Canada goose impacts. We remain cautious regarding cumulative impacts of early seasons on some stocks of migrant geese. Furthermore, this change would require that regulations be promulgated during the early-season process, prior to the annual compilation of data on some migrant Canada goose populations; therefore these regulations could be inconsistent with goose population status.

During the period when Aleutians were listed as either threatened or endangered, Statewide closures were imposed in all Pacific Flyway Coastal States. Since de-listing has occurred, the proposal would eliminate the Statewide closure requirements, but retain all existing closure zones established to specifically protect Aleutian Canada geese. In effect, this would remove blanket restrictions that included areas not used or rarely used by Aleutians. We expect impacts to be negligible and support the simplification of Canada goose hunting regulations in these States.

9. Sandhill Cranes

Council Recommendations: The Central Flyway Council made a number of recommendations pertaining to sandhill cranes. The Council recommended that the sandhill crane open hunting area boundary be changed in Texas and North Dakota for 3 years beginning in the fall of 2001 and population status, harvest, and distribution be evaluated using existing population and harvest surveys. The new hunt area in Texas would include the Gulf Coast, south of Corpus Christi Bay and north of Lavaca Bay. In North Dakota, the hunt boundary would be extended eastward from US Highway 281 to the Minnesota border. Season length in these two new areas would be a maximum of 37 days, and the daily bag limit would be two birds.

The Central Flyway Council also recommended a 95-day hunting season on Mid-Continent Population (MCP) sandhill cranes and reinstatement of the option to split the season into no more than two segments for Texas and Oklahoma.

The Central and Pacific Flyway Councils recommended a change to the current New Mexico SW hunt boundary to include those portions of Grant and Hidalgo Counties south of Interstate 25. The Councils further recommended allowing New Mexico to conduct an experimental 3-year sandhill crane season in the Estancia Valley located in portions of Torrance, Santa Fe, and Bernalillo Counties following the guidelines outlined in the Pacific and Central Flyways Management Plan for the Rocky Mountain Population of Greater Sandhill Cranes.

Service Response: We support the requested change to the open hunting area boundary in Texas and North Dakota for 3 years. The season length in these two new areas would be a maximum of 37 days, and the daily bag limit would be two birds. This proposal represents several years of negotiation among Service and State biologists and also contains a compromise that will allow for expansion in hunting opportunity while providing for evaluation of the biological impacts.

We do not support the proposal for a 95-day hunting season on MCP sandhill cranes and reinstatement of the option to split the season into no more than two segments for Texas and Oklahoma. We understand that the additional 2 days in season length (93 to 95 days) would allow for a split to be used and maintain a Sunday closing for each segment. While we do not believe that the additional days or one split would significantly increase harvest, we are concerned that specific guidelines regarding the use of this option and biological impacts under various types of seasons have not been developed and incorporated into the harvest strategy for this population. Differential impacts and harvest characteristics with the use of the split season options on subspecies, season length, chronology, etc., are unknown.

We concur with the Councils' recommendations regarding New Mexico.

18. Alaska

Council Recommendations: The Pacific Flyway Council recommended modification of Alaska's tundra swan frameworks to: (1) Replace current harvest caps with maximum permit allowances (Unit 18—300, Unit 22—200, Unit 23—200); (2) make the swan season in Game Management Unit (GMU) 23 operational; and (3) establish a new experimental tundra swan season in GMU 17 (North Bristol Bay region). The new hunt would have a 61-day season from September 1-October 31; allow issuance of up to 200 registration permits; each permit to allow up to 3 swans per season; require reporting of hunter activity and harvest. The Council also recommended modification of Alaska's duck limit frameworks to include harlequin and long-tailed ducks in the special sea duck limit, with appropriate adjustment to retain current species limits.

Service Response: We concur with the recommendations. Regarding the recommended duck bag limits, we point out that this change will result in an overall reduction in bag limit for these two species and a simplification of regulations.

Public Comment Invited

The Department of the Interior's policy is, whenever practicable, to afford the public an opportunity to participate in the rulemaking process. We intend that adopted final rules be as responsive as possible to all concerned interests and, therefore, seek the comments and suggestions of the public, other concerned governmental agencies, nongovernmental organizations, and other private interests on these proposals. Accordingly, we invite interested persons to submit written comments, suggestions, or recommendations regarding the proposed regulations to the address indicated under the caption ADDRESSES.

Special circumstances involved in the establishment of these regulations limit the amount of time that we can allow for public comment. Specifically, two considerations compress the time in which the rulemaking process must operate: (1) The need to establish final rules at a point early enough in the summer to allow affected State agencies to adjust their licensing and regulatory mechanisms; and (2) the unavailability, before mid-June, of specific, reliable data on this year's status of some waterfowl and migratory shore and upland game bird populations. Therefore, we believe that to allow comment periods past the dates specified is contrary to the public interest.

Before promulgation of final migratory game bird hunting regulations, we will take into consideration all comments received. Such comments, and any additional information received, may lead to final regulations that differ from these proposals. You may inspect comments received on the proposed annual regulations during normal business hours at the Service's office in room 634, 4401 North Fairfax Drive, Arlington, Virginia. For each series of proposed rulemakings, we will establish specific comment periods. We will consider, but possibly may not respond in detail to, each comment. However, as in the past, we will summarize all comments received during the comment period and respond to them in the final rule.

NEPA Consideration

NEPA considerations are covered by the programmatic document, “Final Supplemental Environmental Impact Statement: Issuance of Annual Regulations Permitting the Sport Hunting of Migratory Birds (FSES 88-14),” filed with the Environmental Protection Agency on June 9, 1988. We published a Notice of Availability in the Federal Register on June 16, 1988 (53 FR 22582). We published our Record of Decision on August 18, 1988 (53 FR 31341). Copies are available from the address indicated under the caption ADDRESSES.

Endangered Species Act Consideration

Prior to issuance of the 2001-02 migratory game bird hunting regulations, we will consider provisions of the Endangered Species Act of 1973, as amended, (16 U.S.C. 1531-1543; hereinafter the Act) to ensure that hunting is not likely to jeopardize the continued existence of any species designated as endangered or threatened or modify or destroy its critical habitat and that the proposed action is consistent with conservation programs for those species. Consultations under Section 7 of this Act may cause us to change proposals in this and future supplemental proposed rulemakings.

Executive Order (E.O.) 12866

While this individual supplemental rule was not reviewed by the Office of Management and Budget (OMB), the migratory bird hunting regulations are economically significant and are annually reviewed by OMB under E.O. 12866. E.O. 12866 requires each agency to write regulations that are easy to understand. We invite comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to understand if it were divided into more (but shorter) sections? (5) Is the description of the rule in the SUPPLEMENTARY INFORMATION section of the preamble helpful in understanding the rule? What else could we do to make the rule easier to understand?

Regulatory Flexibility Act

These regulations have a significant economic impact on substantial numbers of small entities under the Regulatory Flexibility Act (5 U.S.C. 601 et seq.). We analyzed the economic impacts of the annual hunting regulations on small business entities in detail and issued a Small Entity Flexibility Analysis (Analysis) in 1998. The Analysis documented the significant beneficial economic effect on a substantial number of small entities. The primary source of information about hunter expenditures for migratory game bird hunting is the National Hunting and Fishing Survey, which is conducted at 5-year intervals. The Analysis was based on the 1996 National Hunting and Fishing Survey and the U.S. Department of Commerce's County Business Patterns, from which it was estimated that migratory bird hunters would spend between $429 million and $1.084 billion at small businesses in 1998. Copies of the Analysis are available upon request from the address indicated under the caption ADDRESSES.

Small Business Regulatory Enforcement Fairness Act

This rule is a major rule under 5 U.S.C. 804(2), the Small Business Regulatory Enforcement Fairness Act. For the reasons outlined above, this rule has an annual effect on the economy of $100 million or more. However, because this rule establishes hunting seasons, we do not plan to defer the effective date under the exemption contained in 5 U.S.C. 808 (1).

Paperwork Reduction Act

We examined these regulations under the Paperwork Reduction Act of 1995. The various recordkeeping and reporting requirements imposed under regulations established in 50 CFR part 20, Subpart K, are utilized in the formulation of migratory game bird hunting regulations. Specifically, OMB has approved the information collection requirements of the Migratory Bird Harvest Information Program and assigned control number 1018-0015 (expires 09/30/2001). This information is used to provide a sampling frame for voluntary national surveys to improve our harvest estimates for all migratory game birds in order to better manage these populations. OMB has also approved the information collection requirements of the Sandhill Crane Harvest Questionnaire and assigned control number 1018-0023 (expires 07/31/2003). The information from this survey is used to estimate the magnitude and the geographical and temporal distribution of harvest, and the portion it constitutes of the total population. A Federal agency may not conduct or sponsor, and a person is not required to respond to, a collection of information unless it displays a currently valid OMB control number.

Unfunded Mandates Reform Act

We have determined and certify, in compliance with the requirements of the Unfunded Mandates Reform Act, 2 U.S.C. 1502 et seq., that this rulemaking will not “significantly or uniquely” affect small governments, and will not produce a Federal mandate of $100 million or more in any given year on local or State government or private entities. Therefore, this proposed rule is not a “significant regulatory action” under the Unfunded Mandates Reform Act.

Civil Justice Reform—E.O. 12988

The Department, in promulgating this proposed rule, has determined that this rule will not unduly burden the judicial system and meets the requirements of sections 3(a) and 3(b)(2) of E.O. 12988.

Energy Effects—E.O. 13211

On May 18, 2001, the President issued an Executive Order (E.O. 13211) on regulations that significantly affect energy supply, distribution, and use. E.O. 13211 requires agencies to prepare Statements of Energy Effects when undertaking certain actions. As this supplemental proposed rule is not expected to significantly affect energy supplies, distribution, or use, this proposed action is not a significant energy action and no Statement of Energy Effects is required.

Takings Implication Assessment

In accordance with E.O. 12630, this proposed rule does not have significant takings implications and does not affect any constitutionally protected property rights. This rule will not result in the physical occupancy of property, the physical invasion of property, or the regulatory taking of any property. In fact, this rule will allow hunters to exercise otherwise unavailable privileges, and, therefore, reduces restrictions on the use of private and public property.

Federalism Effects

Due to the migratory nature of certain species of birds, the Federal Government has been given responsibility over these species by the Migratory Bird Treaty Act. We annually prescribe frameworks from which the States make selections and employ guidelines to establish special regulations on Federal Indian reservations and ceded lands. This process preserves the ability of the States and Tribes to determine which seasons meet their individual needs. Any State or Tribe may be more restrictive than the Federal frameworks at any time. The frameworks are developed in a cooperative process with the States and the Flyway Councils. This allows States to participate in the development of frameworks from which they will make selections, thereby having an influence on their own regulations. These rules do not have a substantial direct effect on fiscal capacity, change the roles or responsibilities of Federal or State governments, or intrude on State policy or administration. Therefore, in accordance with E.O. 13132, these regulations do not have significant federalism effects and do not have sufficient federalism implications to warrant the preparation of a Federalism Assessment.

List of Subjects in 50 CFR Part 20

Exports, Hunting, Imports, Reporting and recordkeeping requirements, Transportation, Wildlife.

The rules that eventually will be promulgated for the 2001-02 hunting season are authorized under 16 U.S.C. 703-712 and 16 U.S.C. 742a-j.

Dated: July 16, 2001.
Joseph E. Doddridge,
Acting Assistant Secretary for Fish and Wildlife and Parks.

Proposed Regulations Frameworks for 2001-02 Early Hunting Seasons on Certain Migratory Game Birds

Pursuant to the Migratory Bird Treaty Act and delegated authorities, the Department of the Interior approved the following proposed frameworks, which prescribe season lengths, bag limits, shooting hours, and outside dates within which States may select for certain migratory game birds between September 1, 2001, and March 10, 2002.

General

Dates: All outside dates noted below are inclusive.

Shooting and Hawking (taking by falconry) Hours: Unless otherwise specified, from one-half hour before sunrise to sunset daily.

Possession Limits: Unless otherwise specified, possession limits are twice the daily bag limit.

Flyways and Management Units

Waterfowl Flyways

Atlantic Flyway—includes Connecticut, Delaware, Florida, Georgia, Maine, Maryland, Massachusetts, New Hampshire, New Jersey, New York, North Carolina, Pennsylvania, Rhode Island, South Carolina, Vermont, Virginia, and West Virginia.

Mississippi Flyway—includes Alabama, Arkansas, Illinois, Indiana, Iowa, Kentucky, Louisiana, Michigan, Minnesota, Mississippi, Missouri, Ohio, Tennessee, and Wisconsin.

Central Flyway—includes Colorado (east of the Continental Divide), Kansas, Montana (Counties of Blaine, Carbon, Fergus, Judith Basin, Stillwater, Sweetgrass, Wheatland, and all counties east thereof), Nebraska, New Mexico (east of the Continental Divide except the Jicarilla Apache Indian Reservation), North Dakota, Oklahoma, South Dakota, Texas, and Wyoming (east of the Continental Divide).

Pacific Flyway—includes Alaska, Arizona, California, Idaho, Nevada, Oregon, Utah, Washington, and those portions of Colorado, Montana, New Mexico, and Wyoming not included in the Central Flyway.

Management Units

Mourning Dove Management Units

Eastern Management Unit—All States east of the Mississippi River, and Louisiana.

Central Management Unit—Arkansas, Colorado, Iowa, Kansas, Minnesota, Missouri, Montana, Nebraska, New Mexico, North Dakota, Oklahoma, South Dakota, Texas, and Wyoming.

Western Management Unit—Arizona, California, Idaho, Nevada, Oregon, Utah, and Washington.

Woodcock Management Regions

Eastern Management Region—Connecticut, Delaware, Florida, Georgia, Maine, Maryland, Massachusetts, New Hampshire, New Jersey, New York, North Carolina, Pennsylvania, Rhode Island, South Carolina, Vermont, Virginia, and West Virginia.

Central Management Region—Alabama, Arkansas, Illinois, Indiana, Iowa, Kansas, Kentucky, Louisiana, Michigan, Minnesota, Mississippi, Missouri, Nebraska, North Dakota, Ohio, Oklahoma, South Dakota, Tennessee, Texas, and Wisconsin.

Other geographic descriptions are contained in a later portion of this document.

Compensatory Days in the Atlantic Flyway: In the Atlantic Flyway States of Connecticut, Delaware, Maine, Maryland, Massachusetts, New Jersey, North Carolina, Pennsylvania, and Virginia, where Sunday hunting is prohibited statewide by State law, all Sundays are closed to all take of migratory waterfowl (including mergansers and coots).

Special September Teal Season

Outside Dates: Between September 1 and September 30, an open season on all species of teal may be selected by the following States in areas delineated by State regulations:

Atlantic Flyway—Delaware, Florida, Georgia, Maryland, and Virginia. All seasons are experimental.

Mississippi Flyway—Alabama, Arkansas, Illinois, Indiana, Kentucky, Louisiana, Mississippi, Missouri, Ohio, and Tennessee.

Central Flyway—Colorado (part), Kansas, Nebraska (part), New Mexico (part), Oklahoma, and Texas. The season in Nebraska is experimental.

Hunting Seasons and Daily Bag Limits: Not to exceed 9 consecutive days in the Atlantic Flyway and 16 consecutive days in the Mississippi and Central Flyways, except in Nebraska where the season is not to exceed 9 consecutive days. The daily bag limit is 4 teal.

Shooting Hours:

Atlantic Flyway—One-half hour before sunrise to sunset except in Maryland, where the hours are from sunrise to sunset.

Mississippi and Central Flyways—One-half hour before sunrise to sunset, except in the States of Arkansas, Illinois, Indiana, Missouri, and Ohio, where the hours are from sunrise to sunset.

Special September Duck Seasons

Florida: In lieu of a special September teal season, a 5-consecutive-day season may be selected in September. The daily bag limit may not exceed 4 teal and wood ducks in the aggregate, of which no more than 2 may be wood ducks.

Kentucky and Tennessee: In lieu of a special September teal season, a 5-consecutive-day season may be selected in September. The daily bag limit may not exceed 4 teal and wood ducks in the aggregate, of which no more than 2 may be wood ducks.

Iowa: Iowa may hold up to 5 days of its regular duck hunting season in September. All ducks that are legal during the regular duck season may be taken during the September segment of the season. The September season segment may commence no earlier than the Saturday nearest September 20 (September 22). The daily bag and possession limits will be the same as those in effect last year, but are subject to change during the late-season regulations process. The remainder of the regular duck season may not begin before October 10.

Special Youth Waterfowl Hunting Days

Outside Dates: States may select two consecutive days (hunting days in Atlantic Flyway States with compensatory days) per duck-hunting zone, designated as “Youth Waterfowl Hunting Days,” in addition to their regular duck seasons. The days must be held outside any regular duck season on a weekend, holidays, or other non-school days when youth hunters would have the maximum opportunity to participate. The days may be held up to 14 days before or after any regular duck-season frameworks or within any split of a regular duck season, or within any other open season on migratory birds.

Daily Bag Limits: The daily bag limit may include ducks, geese, mergansers, coots, moorhens, and gallinules and would be the same as that allowed in the regular season. Flyway species and area restrictions would remain in effect.

Shooting Hours: One-half hour before sunrise to sunset.

Participation Restrictions: Youth hunters must be 15 years of age or younger. In addition, an adult at least 18 years of age must accompany the youth hunter into the field. This adult could not duck hunt but may participate in other seasons that are open on the special youth day.

Scoter, Eider, and Oldsquaw Ducks (Atlantic Flyway)

Outside Dates: Between September 15 and January 20.

Hunting Seasons and Daily Bag Limits: Not to exceed 107 days, with a daily bag limit of 7, singly or in the aggregate of the listed sea-duck species, of which no more than 4 may be scoters.

Daily Bag Limits During the Regular Duck Season: Within the special sea duck areas, during the regular duck season in the Atlantic Flyway, States may choose to allow the above sea duck limits in addition to the limits applying to other ducks during the regular duck season. In all other areas, sea ducks may be taken only during the regular open season for ducks and are part of the regular duck season daily bag (not to exceed 4 scoters) and possession limits.

Areas: In all coastal waters and all waters of rivers and streams seaward from the first upstream bridge in Maine, New Hampshire, Massachusetts, Rhode Island, Connecticut, and New York; in any waters of the Atlantic Ocean and in any tidal waters of any bay which are separated by at least 1 mile of open water from any shore, island, and emergent vegetation in New Jersey, South Carolina, and Georgia; and in any waters of the Atlantic Ocean and in any tidal waters of any bay which are separated by at least 800 yards of open water from any shore, island, and emergent vegetation in Delaware, Maryland, North Carolina and Virginia; and provided that any such areas have been described, delineated, and designated as special sea-duck hunting areas under the hunting regulations adopted by the respective States.

Special Early Canada Goose Seasons

Atlantic Flyway

General Seasons

Canada goose seasons of up to 15 days during September 1-15 may be selected for the Eastern Unit of Maryland and Delaware. Seasons not to exceed 20 days during September 1-20 may be selected for the Northeast Hunt Unit of North Carolina. Seasons not to exceed 30 days during September 1-30 may be selected by New Jersey. Seasons may not exceed 25 days during September 1-25 in the remainder of the Flyway, except Georgia and Florida, where the season is closed. Areas open to the hunting of Canada geese must be described, delineated, and designated as such in each State's hunting regulations.

Daily Bag Limits: Not to exceed 5 Canada geese.

Experimental Seasons

Experimental Canada goose seasons of up to 25 days during September 1-25 may be selected by the Montezuma Region of New York, the Lake Champlain Region of New York and Vermont. Experimental seasons of up to 30 days during September 1-30 may be selected by New York (Long Island Zone), North Carolina (except in the Northeast Hunt Unit), and South Carolina. Areas open to the hunting of Canada geese must be described, delineated, and designated as such in each State's hunting regulations.

Daily Bag Limits: Not to exceed 5 Canada geese.

Mississippi Flyway

General Seasons

Canada goose seasons of up to 15 days during September 1-15 may be selected, except in the Upper Peninsula in Michigan, where the season may not extend beyond September 10. The daily bag limit may not exceed 5 Canada geese. Areas open to the hunting of Canada geese must be described, delineated, and designated as such in each State's hunting regulations.

Experimental Seasons

An experimental Canada goose season of up to 7 consecutive days during September 16-22 may be selected by Minnesota, except in the Northwest Goose Zone. The daily bag limit may not exceed 5 Canada geese.

An experimental Canada goose season of up to 10 consecutive days during September 1-10 may be selected by Michigan for Huron, Saginaw, and Tuscola Counties, except that the Shiawassee National Wildlife Refuge, Shiawassee River State Game Area Refuge, and the Fish Point Wildlife Area Refuge will remain closed. The daily bag limit may not exceed 2 Canada geese.

Central Flyway

General Seasons

Canada goose seasons of up to 15 days during September 1-15 may be selected. The daily bag limit may not exceed 5 Canada geese. Areas open to the hunting of Canada geese must be described, delineated, and designated as such in each State's hunting regulations.

Experimental Seasons

An experimental Canada goose season of up to 14 consecutive days during September 16-29 may be selected by South Dakota. The daily bag limit may not exceed 5 Canada geese.

An experimental Canada goose season of up to 8 consecutive days during September 16-23 may be selected by Oklahoma. The daily bag limit may not exceed 5 Canada geese.

An experimental Canada goose season of up to 7 consecutive days during September 16-22 may be selected by North Dakota. The daily bag limit may not exceed 5 Canada geese.

Pacific Flyway

General Seasons

Wyoming may select an 8-day season on Canada geese between September 1-15. This season is subject to the following conditions:

1. Where applicable, the season must be concurrent with the September portion of the sandhill crane season.

2. All participants must have a valid State permit for the special season.

3. A daily bag limit of 3, with season and possession limits of 6 will apply to the special season.

Oregon may select a special Canada goose season of up to 15 days during the period September 1-15. In addition, in the NW goose management zone in Oregon, a 15-day season may be selected during the period September 1-20. Daily bag limits may not exceed 5 Canada geese.

Washington may select a special Canada goose season of up to 15 days during the period September 1-15. Daily bag limits may not exceed 5 Canada geese.

Idaho may select a 15-day season in the special East Canada Goose Zone, as described in State regulations, during the period September 1-15. All participants must have a valid State permit, and the total number of permits issued is not to exceed 110 for this zone. The daily bag limit is 2.

Idaho may select a 7-day Canada Goose Season during the period September 1-15 in Nez Perce County, with a bag limit of 4.

California may select a 9-day season in Humboldt County during the period September 1-15. The daily bag limit is 2.

Areas open to hunting of Canada geese in each State must be described, delineated, and designated as such in each State's hunting regulations.

Regular Goose Seasons

Regular goose seasons may open as early as September 16 in Wisconsin and Michigan. Season lengths, bag and possession limits, and other provisions will be established during the late-season regulations process.

Sandhill Cranes

Regular Seasons in the Central Flyway:

Outside Dates: Between September 1 and February 28.

Hunting Seasons: Seasons not to exceed 37 consecutive days may be selected in designated portions of North Dakota (Area 2) and Texas (Area 2). Seasons not to exceed 58 consecutive days may be selected in designated portions of the following States: Colorado, Kansas, Montana, North Dakota, South Dakota, and Wyoming. Seasons not to exceed 93 consecutive days may be selected in designated portions of the following States: New Mexico, Oklahoma, and Texas.

Daily Bag Limits: 3 sandhill cranes, except 2 sandhill cranes in designated portions of North Dakota (Area 2) and Texas (Area 2).

Permits: Each person participating in the regular sandhill crane seasons must have a valid Federal sandhill crane hunting permit and/or, in those States where a Federal sandhill crane permit is not issued, a State-issued Harvest Information Survey Program (HIP) certification for game bird hunting in their possession while hunting.

Special Seasons in the Central and Pacific Flyways:

Arizona, Colorado, Idaho, Montana, New Mexico, Utah, and Wyoming may select seasons for hunting sandhill cranes within the range of the Rocky Mountain Population (RMP) subject to the following conditions:

Outside Dates: Between September 1 and January 31.

Hunting Seasons: The season in any State or zone may not exceed 30 days.

Bag limits: Not to exceed 3 daily and 9 per season.

Permits: Participants must have a valid permit, issued by the appropriate State, in their possession while hunting.

Other provisions: Numbers of permits, open areas, season dates, protection plans for other species, and other provisions of seasons must be consistent with the management plan and approved by the Central and Pacific Flyway Councils with the following exceptions:

1. In Utah, the requirement for monitoring the racial composition of the harvest in the experimental season is waived, and 100 percent of the harvest will be assigned to the RMP quota;

2. In Arizona, the annual requirement for monitoring the racial composition of the harvest is changed to once every 3 years.

3. In Idaho, seasons are experimental, and the requirement for monitoring the racial composition of the harvest is waived; 100 percent of the harvest will be assigned to the RMP quota; and

4. In New Mexico, the season in the Estancia Valley is experimental, with a requirement to monitor the level and racial composition of the harvest; greater sandhill cranes in the harvest will be assigned to the RMP quota.

Common Moorhens and Purple Gallinules

Outside Dates: Between September 1 and January 20 in the Atlantic Flyway, and between September 1 and the Sunday nearest January 20 (January 20) in the Mississippi and Central Flyways. States in the Pacific Flyway have been allowed to select their hunting seasons between the outside dates for the season on ducks; therefore, they are late-season frameworks, and no frameworks are provided in this document.

Hunting Seasons and Daily Bag Limits: Seasons may not exceed 70 days in the Atlantic, Mississippi, and Central Flyways. Seasons may be split into 2 segments. The daily bag limit is 15 common moorhens and purple gallinules, singly or in the aggregate of the two species.

Rails

Outside Dates: States included herein may select seasons between September 1 and January 20 on clapper, king, sora, and Virginia rails.

Hunting Seasons: The season may not exceed 70 days, and may be split into 2 segments.

Daily Bag Limits:

Clapper and King Rails—In Rhode Island, Connecticut, New Jersey, Delaware, and Maryland, 10, singly or in the aggregate of the two species. In Texas, Louisiana, Mississippi, Alabama, Georgia, Florida, South Carolina, North Carolina, and Virginia, 15, singly or in the aggregate of the two species.

Sora and Virginia Rails—In the Atlantic, Mississippi, and Central Flyways and the Pacific-Flyway portions of Colorado, Montana, New Mexico, and Wyoming, 25 daily and 25 in possession, singly or in the aggregate of the two species. The season is closed in the remainder of the Pacific Flyway.

Common Snipe

Outside Dates: Between September 1 and February 28, except in Maine, Vermont, New Hampshire, Massachusetts, Rhode Island, Connecticut, New York, New Jersey, Delaware, Maryland, and Virginia, where the season must end no later than January 31.

Hunting Seasons and Daily Bag Limits: Seasons may not exceed 107 days and may be split into two segments. The daily bag limit is 8 snipe.

American Woodcock

Outside Dates: States in the Eastern Management Region may select hunting seasons between October 6 and January 31. States in the Central Management Region may select hunting seasons between the Saturday nearest September 22 (September 22) and January 31.

Hunting Seasons and Daily Bag Limits: Seasons may not exceed 30 days in the Eastern Region and 45 days in the Central Region. The daily bag limit is 3. Seasons may be split into two segments.

Zoning: New Jersey may select seasons in each of two zones. The season in each zone may not exceed 24 days.

Band-Tailed Pigeons

Pacific Coast States (California, Oregon, Washington, and Nevada)

Outside Dates: Between September 15 and January 1.

Hunting Seasons and Daily Bag Limits: Not more than 9 consecutive days, with a daily bag limit of 2 band-tailed pigeons.

Zoning: California may select hunting seasons not to exceed 9 consecutive days in each of two zones. The season in the North Zone must close by October 3.

Four-Corners States (Arizona, Colorado, New Mexico, and Utah)

Outside Dates: Between September 1 and November 30.

Hunting Seasons and Daily Bag Limits: Not more than 30 consecutive days, with a daily bag limit of 5 band-tailed pigeons.

Zoning: New Mexico may select hunting seasons not to exceed 20 consecutive days in each of two zones. The season in the South Zone may not open until October 1.

Mourning Doves

Outside Dates: Between September 1 and January 15, except as otherwise provided, States may select hunting seasons and daily bag limits as follows:

Eastern Management Unit

Hunting Seasons and Daily Bag Limits: Not more than 70 days with a daily bag limit of 12, or not more than 60 days with a daily bag limit of 15.

Zoning and Split Seasons: States may select hunting seasons in each of two zones. The season within each zone may be split into not more than three periods. The hunting seasons in the South Zones of Alabama, Florida, Georgia, Louisiana, and Mississippi may commence no earlier than September 20. Regulations for bag and possession limits, season length, and shooting hours must be uniform within specific hunting zones.

Central Management Unit

Hunting Seasons and Daily Bag Limits: Not more than 70 days with a daily bag limit of 12, or not more than 60 days with a daily bag limit of 15.

Zoning and Split Seasons: States may select hunting seasons in each of two zones. The season within each zone may be split into not more than three periods. Texas may select hunting seasons for each of three zones subject to the following conditions:

A. The hunting season may be split into not more than two periods, except in that portion of Texas in which the special white-winged dove season is allowed, where a limited mourning dove season may be held concurrently with that special season (see white-winged dove frameworks).

B. A season may be selected for the North and Central Zones between September 1 and January 25; and for the South Zone between September 20 and January 25.

C. Each zone may have a daily bag limit of 12 doves (15 under the alternative) in the aggregate, no more than 2 of which may be white-tipped doves, except that during the special white-winged dove season, the daily bag limit may not exceed 10 white-winged, mourning, and white-tipped doves in the aggregate, of which no more than 5 may be mourning doves and 2 may be white-tipped doves.

D. Except as noted above, regulations for bag and possession limits, season length, and shooting hours must be uniform within each hunting zone.

Western Management Unit

Hunting Seasons and Daily Bag Limits: Idaho, Nevada, Oregon, Utah, and Washington—Not more than 30 consecutive days with a daily bag limit of 10 mourning doves (in Nevada, the daily bag limit may not exceed 10 mourning and white-winged doves in the aggregate).

Arizona and California—Not more than 60 days, which may be split between two periods, September 1-15 and November 1-January 15. In Arizona, during the first segment of the season, the daily bag limit is 10 mourning and white-winged doves in the aggregate, of which no more than 6 may be white-winged doves. During the remainder of the season, the daily bag limit is restricted to 10 mourning doves. In California, the daily bag limit may not exceed 10 mourning and white-winged doves in the aggregate.

White-Winged and White-Tipped Doves

Hunting Seasons and Daily Bag Limits:

Except as shown below, seasons in Arizona, California, Florida, Nevada, New Mexico, and Texas must be concurrent with mourning dove seasons.

Arizona may select a hunting season of not more than 30 consecutive days, running concurrently with the first segment of the mourning dove season. The daily bag limit may not exceed 10 mourning and white-winged doves in the aggregate, of which no more than 6 may be white-winged doves.

In Florida, the daily bag limit may not exceed 12 mourning and white-winged doves (15 under the alternative) in the aggregate, of which no more than 4 may be white-winged doves.

In the Nevada Counties of Clark and Nye, and in the California Counties of Imperial, Riverside, and San Bernardino, the daily bag limit may not exceed 10 mourning and white-winged doves in the aggregate.

In New Mexico, the daily bag limit may not exceed 12 mourning and white-winged doves (15 under the alternative) in the aggregate.

In Texas, the daily bag limit may not exceed 12 doves (15 under the alternative) in the aggregate, of which not more than 2 may be white-tipped doves.

In addition, Texas may also select a hunting season of not more than 4 days for the special white-winged dove area of the South Zone between September 1 and September 19. The daily bag limit may not exceed 10 white-winged, mourning, and white-tipped doves in the aggregate, of which no more than 5 may be mourning doves and 2 may be white-tipped doves.

Alaska

Outside Dates: Between September 1 and January 26.

Hunting Seasons: Alaska may select 107 consecutive days for waterfowl, sandhill cranes, and common snipe in each of five zones. The season may be split without penalty in the Kodiak Zone. The seasons in each zone must be concurrent.

Closures: The season is closed on Canada geese from Unimak Pass westward in the Aleutian Island chain. The hunting season is closed on emperor geese, spectacled eiders, and Steller's eiders.

Daily Bag and Possession Limits:

Ducks—Except as noted, a basic daily bag limit of 7 and a possession limit of 21 ducks. Daily bag and possession limits in the North Zone are 10 and 30, and in the Gulf Coast Zone, they are 8 and 24, respectively. The basic limits may include no more than 1 canvasback daily and 3 in possession and may not include sea ducks.

In addition to the basic duck limits, Alaska may select sea duck limits of 10 daily, 20 in possession, singly or in the aggregate, including no more than 6 each of either harlequin or long-tailed ducks. Sea ducks include scoters, common and king eiders, harlequin ducks, long-tailed ducks, and common and red-breasted mergansers.

Light Geese—A basic daily bag limit of 3 and a possession limit of 6.

Dark Geese—A basic daily bag limit of 4 and a possession limit of 8.

Dark-goose seasons are subject to the following exceptions:

1. In Units 5 and 6, the taking of Canada geese is permitted from September 28 through December 16. A special, permit-only Canada goose season may be offered on Middleton Island. No more than 10 permits can be issued. A mandatory goose identification class is required. Hunters must check-in and check-out. Bag limit of 1 daily and 1 in possession. Season to close if incidental harvest includes 5 dusky Canada geese. A dusky Canada goose is any dark-breasted Canada goose (Munsell 10 YR color value five or less) with a bill length between 40 and 50 millimeters.

2. In Unit 10 (except Unimak Island), the taking of Canada geese is prohibited.

3. In Unit 9(D) and the Unimak Island portion of Unit 10, the limits for dark geese are 6 daily and 12 in possession.

Brant—A daily bag limit of 2.

Common snipe—A daily bag limit of 8.

Sandhill cranes—Bag and possession limits of 2 and 4, respectively, in the Southeast, Gulf Coast, Kodiak, and Aleutian Zones, and Unit 17 in the Northern Zone. In the remainder of the Northern Zone (outside Unit 17), bag and possession limits of 3 and 6, respectively.

Tundra Swans—Open seasons for tundra swans may be selected subject to the following conditions:

1. All seasons are by registration permit only.

2. All season framework dates are September 1-October 31.

3. In Game Management Unit (GMU) 17, an experimental season may be selected. No more than 200 permits may be issued for this during the experimental season. No more than 3 tundra swans may be authorized per permit with no more than 1 permit issued per hunter per season. An evaluation of the season must be completed, adhering to the guidelines for experimental seasons as described in the Pacific Flyway Management Plan for the Western Population of (Tundra) Swans.

4. In Game Management Unit (GMU) 18, no more than 500 permits may be issued during the operational season. Up to 3 tundra swans may be authorized per permit. No more than 1 permit may be issued per hunter per season.

5. In GMU 22, no more than 300 permits may be issued during the operational season. Each permittee may be authorized to take up to 3 tundra swan per permit. No more than 1 permit may be issued per hunter per season.

6. In GMU 23, no more than 300 permits may be issued during the operational season. No more than 3 tundra swans may be authorized per permit with no more than 1 permit issued per hunter per season.

Hawaii

Outside Dates: Between October 1 and January 31.

Hunting Seasons: Not more than 65 days (75 under the alternative) for mourning doves.

Bag Limits: Not to exceed 15 (12 under the alternative) mourning doves.

Note: Mourning doves may be taken in Hawaii in accordance with shooting hours and other regulations set by the State of Hawaii, and subject to the applicable provisions of 50 CFR part 20.

Puerto Rico

Doves and Pigeons:

Outside Dates: Between September 1 and January 15.

Hunting Seasons: Not more than 60 days.

Daily Bag and Possession Limits: Not to exceed 10 Zenaida, mourning, and white-winged doves in the aggregate. Not to exceed 5 scaly-naped pigeons.

Closed Areas: There is no open season on doves or pigeons in the following areas: Municipality of Culebra, Desecheo Island, Mona Island, El Verde Closure Area, and Cidra Municipality and adjacent areas.

Ducks, Coots, Moorhens, Gallinules, and Snipe:

Outside Dates: Between October 1 and January 31.

Hunting Seasons: Not more than 55 days may be selected for hunting ducks, common moorhens, and common snipe. The season may be split into two segments.

Daily Bag Limits:

Ducks—Not to exceed 6.

Common moorhens—Not to exceed 6.

Common snipe—Not to exceed 8.

Closed Seasons: The season is closed on the ruddy duck, white-cheeked pintail, West Indian whistling duck, fulvous whistling duck, and masked duck, which are protected by the Commonwealth of Puerto Rico. The season also is closed on the purple gallinule, American coot, and Caribbean coot.

Closed Areas: There is no open season on ducks, common moorhens, and common snipe in the Municipality of Culebra and on Desecheo Island.

Virgin Islands

Doves and Pigeons:

Outside Dates: Between September 1 and January 15.

Hunting Seasons: Not more than 60 days for Zenaida doves.

Daily Bag and Possession Limits: Not to exceed 10 Zenaida doves.

Closed Seasons: No open season is prescribed for ground or quail doves, or pigeons in the Virgin Islands.

Closed Areas: There is no open season for migratory game birds on Ruth Cay (just south of St. Croix).

Local Names for Certain Birds: Zenaida dove, also known as mountain dove; bridled quail-dove, also known as Barbary dove or partridge; Common ground-dove, also known as stone dove, tobacco dove, rola, or tortolita; scaly-naped pigeon, also known as red-necked or scaled pigeon.

Ducks

Outside Dates: Between December 1 and January 31.

Hunting Seasons: Not more than 55 consecutive days.

Daily Bag Limits: Not to exceed 6.

Closed Seasons: The season is closed on the ruddy duck, white-cheeked pintail, West Indian whistling duck, fulvous whistling duck, and masked duck.

Special Falconry Regulations

Falconry is a permitted means of taking migratory game birds in any State meeting Federal falconry standards in 50 CFR 21.29(k). These States may select an extended season for taking migratory game birds in accordance with the following:

Extended Seasons: For all hunting methods combined, the combined length of the extended season, regular season, and any special or experimental seasons shall not exceed 107 days for any species or group of species in a geographical area. Each extended season may be divided into a maximum of 3 segments.

Framework Dates: Seasons must fall between September 1 and March 10.

Daily Bag and Possession Limits: Falconry daily bag and possession limits for all permitted migratory game birds shall not exceed 3 and 6 birds, respectively, singly or in the aggregate, during extended falconry seasons, any special or experimental seasons, and regular hunting seasons in all States, including those that do not select an extended falconry season.

Regular Seasons: General hunting regulations, including seasons and hunting hours, apply to falconry in each State listed in 50 CFR 21.29(k). Regular-season bag and possession limits do not apply to falconry. The falconry bag limit is not in addition to gun limits.

Area, Unit, and Zone Descriptions

Mourning and White-Winged Doves

Alabama

South Zone—Baldwin, Barbour, Coffee, Conecuh, Covington, Dale, Escambia, Geneva, Henry, Houston, and Mobile Counties.

North Zone—Remainder of the State.

California

White-winged Dove Open Areas—Imperial, Riverside, and San Bernardino Counties.

Florida

Northwest Zone—The Counties of Bay, Calhoun, Escambia, Franklin, Gadsden, Gulf, Holmes, Jackson, Liberty, Okaloosa, Santa Rosa, Walton, Washington, Leon (except that portion north of U.S. 27 and east of State Road 155), Jefferson (south of U.S. 27, west of State Road 59 and north of U.S. 98), and Wakulla (except that portion south of U.S. 98 and east of the St. Marks River).

South Zone—Remainder of State.

Georgia

Northern Zone—That portion of the State lying north of a line running west to east along U.S. Highway 280 from Columbus to Wilcox County, thence southward along the western border of Wilcox County; thence east along the southern border of Wilcox County to the Ocmulgee River, thence north along the Ocmulgee River to Highway 280, thence east along Highway 280 to the Little Ocmulgee River; thence southward along the Little Ocmulgee River to the Ocmulgee River; thence southwesterly along the Ocmulgee River to the western border of Jeff Davis County; thence south along the western border of Jeff Davis County; thence east along the southern border of Jeff Davis and Appling Counties; thence north along the eastern border of Appling County, to the Altamaha River; thence east to the eastern border of Tattnall County; thence north along the eastern border of Tattnall County; thence north along the western border of Evans to Candler County; thence east along the northern border of Evans County to U.S. Highway 301; thence northeast along U.S. Highway 301 to the South Carolina line.

South Zone—Remainder of the State.

Louisiana

North Zone—That portion of the State north of Interstate Highway 10 from the Texas State line to Baton Rouge, Interstate Highway 12 from Baton Rouge to Slidell and Interstate Highway 10 from Slidell to the Mississippi State line.

South Zone—The remainder of the State.

Nevada

White-winged Dove Open Areas—Clark and Nye Counties.

Texas

North Zone—That portion of the State north of a line beginning at the International Bridge south of Fort Hancock; north along FM 1088 to TX 20; west along TX 20 to TX 148; north along TX 148 to I-10 at Fort Hancock; east along I-10 to I-20; northeast along I-20 to I-30 at Fort Worth; northeast along I-30 to the Texas-Arkansas State line.

South Zone—That portion of the State south and west of a line beginning at the International Bridge south of Del Rio, proceeding east on U.S. 90 to San Antonio; then east on I-10 to Orange, Texas.

Special White-winged Dove Area in the South Zone—That portion of the State south and west of a line beginning at the International Bridge south of Del Rio, proceeding east on U.S. 90 to Uvalde; south on U.S. 83 to TX 44; east along TX 44 to TX 16 at Freer; south along TX 16 to TX 285 at Hebbronville; east along TX 285 to FM 1017; southwest along FM 1017 to TX 186 at Linn; east along TX 186 to the Mansfield Channel at Port Mansfield; east along the Mansfield Channel to the Gulf of Mexico.

Area with additional restrictions—Cameron, Hidalgo, Starr, and Willacy Counties.

Central Zone—That portion of the State lying between the North and South Zones.

Band-Tailed Pigeons

California

North Zone—Alpine, Butte, Del Norte, Glenn, Humboldt, Lassen, Mendocino, Modoc, Plumas, Shasta, Sierra, Siskiyou, Tehama, and Trinity Counties.

South Zone—The remainder of the State.

New Mexico

North Zone—North of a line following U.S. 60 from the Arizona State line east to I-25 at Socorro and then south along I-25 from Socorro to the Texas State line.

South Zone—Remainder of the State.

Washington

Western Washington—The State of Washington excluding those portions lying east of the Pacific Crest Trail and east of the Big White Salmon River in Klickitat County.

Woodcock

New Jersey

North Zone—That portion of the State north of NJ 70.

South Zone—The remainder of the State.

Special September Canada Goose Seasons

Atlantic Flyway

Connecticut

North Zone—That portion of the State north of I-95.

Maryland

Eastern Unit—Anne Arundel, Calvert, Caroline, Cecil, Charles, Dorchester, Harford, Kent, Queen Anne's, St. Mary's, Somerset, Talbot, Wicomico, and Worcester Counties, and those portions of Baltimore, Howard, and Prince George's Counties east of I-95.

Western Unit—Allegany, Carroll, Frederick, Garrett, Montgomery, and Washington Counties, and those portions of Baltimore, Howard, and Prince George's Counties west of I-95.

Massachusetts

Western Zone—That portion of the State west of a line extending south from the Vermont border on I-91 to MA 9, west on MA 9 to MA 10, south on MA 10 to U.S. 202, south on U.S. 202 to the Connecticut border.

Central Zone—That portion of the State east of the Berkshire Zone and west of a line extending south from the New Hampshire border on I-95 to U.S. 1, south on U.S. 1 to I-93, south on I-93 to MA 3, south on MA 3 to U.S. 6, west on U.S. 6 to MA 28, west on MA 28 to I-195, west to the Rhode Island border; except the waters, and the lands 150 yards inland from the high-water mark, of the Assonet River upstream to the MA 24 bridge, and the Taunton River upstream to the Center St.-Elm St. bridge shall be in the Coastal Zone.

Coastal Zone—That portion of Massachusetts east and south of the Central Zone.

New York

Lake Champlain Zone—The U.S. portion of Lake Champlain and that area east and north of a line extending along NY 9B from the Canadian border to U.S. 9, south along U.S. 9 to NY 22 south of Keesville; south along NY 22 to the west shore of South Bay, along and around the shoreline of South Bay to NY 22 on the east shore of South Bay; southeast along NY 22 to U.S. 4, northeast along U.S. 4 to the Vermont border.

Long Island Zone—That area consisting of Nassau County, Suffolk County, that area of Westchester County southeast of I-95, and their tidal waters.

Western Zone—That area west of a line extending from Lake Ontario east along the north shore of the Salmon River to I-81, and south along I-81 to the Pennsylvania border, except for the Montezuma Zone.

Montezuma Zone—Those portions of Cayuga, Seneca, Ontario, Wayne, and Oswego Counties north of U.S. Route 20, east of NYS Route 14, south of NYS Route 104, and west of NYS Route 34.

Northeastern Zone—That area north of a line extending from Lake Ontario east along the north shore of the Salmon River to I-81, south along I-81 to NY 49, east along NY 49 to NY 365, east along NY 365 to NY 28, east along NY 28 to NY 29, east along NY 29 to I-87, north along I-87 to U.S. 9 (at Exit 20), north along U.S. 9 to NY 149, east along NY 149 to U.S. 4, north along U.S. 4 to the Vermont border, exclusive of the Lake Champlain Zone.

Southeastern Zone—The remaining portion of New York.

North Carolina

Northeast Hunt Unit—Counties of Bertie, Camden, Chowan, Currituck, Dare, Hyde, Pasquotank, Perquimans, Tyrrell, and Washington.

South Carolina

Early-season Hunt Unit—Clarendon County and those portions of Orangeburg County north of SC Highway 6 and Berkeley County north of SC Highway 45 from the Orangeburg County line to the junction of SC Highway 45 and State Road S-8-31 and west of the Santee Dam.

Vermont

Lake Champlain Zone: The U.S. portion of Lake Champlain and that area north and west of the line extending from the New York border along U.S. 4 to VT 22A at Fair Haven; VT 22A to U.S. 7 at Vergennes; U.S. 7 to the Canadian border.

Interior Zone: The remaining portion of Vermont.

Mississippi Flyway

Illinois

Northeast Canada Goose Zone—Cook, Du Page, Grundy, Kane, Kankakee, Kendall, Lake, McHenry, and Will Counties.

North Zone: That portion of the State outside the Northeast Canada Goose Zone and north of a line extending east from the Iowa border along Illinois Highway 92 to Interstate Highway 280, east along I-280 to I-80, then east along I-80 to the Indiana border.

Central Zone: That portion of the State outside the Northeast Canada Goose Zone and south of the North Zone to a line extending east from the Missouri border along the Modoc Ferry route to Modoc Ferry Road, east along Modoc Ferry Road to Modoc Road, northeasterly along Modoc Road and St. Leo's Road to Illinois Highway 3, north along Illinois 3 to Illinois 159, north along Illinois 159 to Illinois 161, east along Illinois 161 to Illinois 4, north along Illinois 4 to Interstate Highway 70, east along I-70 to the Bond County line, north and east along the Bond County line to Fayette County, north and east along the Fayette County line to Effingham County, east and south along the Effingham County line to I-70, then east along I-70 to the Indiana border.

South Zone: The remainder of Illinois.

Iowa

North Zone: That portion of the State north of a line extending east from the Nebraska border along State Highway 175 to State 37, southeast along State 37 to U.S. Highway 59, south along U.S. 59 to Interstate Highway 80, then east along I-80 to the Illinois border.

South Zone: The remainder of Iowa.

Michigan

North Zone: The Upper Peninsula.

Middle Zone: That portion of the Lower Peninsula north of a line beginning at the Wisconsin border in Lake Michigan due west of the mouth of Stony Creek in Oceana County; then due east to, and easterly and southerly along the south shore of, Stony Creek to Scenic Drive, easterly and southerly along Scenic Drive to Stony Lake Road, easterly along Stony Lake and Garfield Roads to Michigan Highway 20, east along Michigan 20 to U.S. Highway 10 Business Route (BR) in the city of Midland, east along U.S. 10 BR to U.S. 10, east along U.S. 10 to Interstate Highway 75/U.S. Highway 23, north along I-75/U.S. 23 to the U.S. 23 exit at Standish, east along U.S. 23 to Shore Road in Arenac County, east along Shore Road to the tip of Point Lookout, then on a line directly east 10 miles into Saginaw Bay, and from that point on a line directly northeast to the Canada border.

South Zone: The remainder of Michigan.

Minnesota

Twin Cities Metropolitan Canada Goose Zone—

A. All of Hennepin and Ramsey Counties.

B. In Anoka County, all of Columbus Township lying south of County State Aid Highway (CSAH) 18, Anoka County; all of the cities of Ramsey, Andover, Anoka, Coon Rapids, Spring Lake Park, Fridley, Hilltop, Columbia Heights, Blaine, Lexington, Circle Pines, Lino Lakes, and Centerville; and all of the city of Ham Lake except that portion lying north of CSAH 18 and east of U.S. Highway 65.

C. That part of Carver County lying north and east of the following described line: Beginning at the northeast corner of San Francisco Township; thence west along the north boundary of San Francisco Township to the east boundary of Dahlgren Township; thence north along the east boundary of Dahlgren Township to U.S. Highway 212; thence west along U.S. Highway 212 to State Trunk Highway (STH) 284; thence north on STH 284 to County State Aid Highway (CSAH) 10; thence north and west on CSAH 10 to CSAH 30; thence north and west on CSAH 30 to STH 25; thence east and north on STH 25 to CSAH 10; thence north on CSAH 10 to the Carver County line.

D. In Scott County, all of the cities of Shakopee, Savage, Prior Lake, and Jordan, and all of the Townships of Jackson, Louisville, St. Lawrence, Sand Creek, Spring Lake, and Credit River.

E. In Dakota County, all of the cities of Burnsville, Eagan, Mendota Heights, Mendota, Sunfish Lake, Inver Grove Heights, Apple Valley, Lakeville, Rosemount, Farmington, Hastings, Lilydale, West St. Paul, and South St. Paul, and all of the Township of Nininger.

F. That portion of Washington County lying south of the following described line: Beginning at County State Aid Highway (CSAH) 2 on the west boundary of the county; thence east on CSAH 2 to U.S. Highway 61; thence south on U.S. Highway 61 to State Trunk Highway (STH) 97; thence east on STH 97 to the intersection of STH 97 and STH 95; thence due east to the east boundary of the State.

Northwest Goose Zone—That portion of the State encompassed by a line extending east from the North Dakota border along U.S. Highway 2 to State Trunk Highway (STH) 32, north along STH 32 to STH 92, east along STH 92 to County State Aid Highway (CSAH) 2 in Polk County, north along CSAH 2 to CSAH 27 in Pennington County, north along CSAH 27 to STH 1, east along STH 1 to CSAH 28 in Pennington County, north along CSAH 28 to CSAH 54 in Marshall County, north along CSAH 54 to CSAH 9 in Roseau County, north along CSAH 9 to STH 11, west along STH 11 to STH 310, and north along STH 310 to the Manitoba border.

Southeast Goose Zone—That part of the State within the following described boundaries: beginning at the intersection of U.S. Highway 52 and the south boundary of the Twin Cities Metro Canada Goose Zone; thence along the U.S. Highway 52 to State Trunk Highway (STH) 57; thence along STH 57 to the municipal boundary of Kasson; thence along the municipal boundary of Kasson County State Aid Highway (CSAH) 13, Dodge County; thence along CSAH 13 to STH 30; thence along STH 30 to U.S. Highway 63; thence along U.S. Highway 63 to the south boundary of the State; thence along the south and east boundaries of the State to the south boundary of the Twin Cities Metro Canada Goose Zone; thence along said boundary to the point of beginning.

Five Goose Zone—That portion of the State not included in the Twin Cities Metropolitan Canada Goose Zone, the Northwest Goose Zone, or the Southeast Goose Zone.

West Zone—That portion of the State encompassed by a line beginning at the junction of State Trunk Highway (STH) 60 and the Iowa border, then north and east along STH 60 to U.S. Highway 71, north along U.S. 71 to Interstate Highway 94, then north and west along I-94 to the North Dakota border.

Tennessee

Middle Tennessee Zone—Those portions of Houston, Humphreys, Montgomery, Perry, and Wayne Counties east of State Highway 13; and Bedford, Cannon, Cheatham, Coffee, Davidson, Dickson, Franklin, Giles, Hickman, Lawrence, Lewis, Lincoln, Macon, Marshall, Maury, Moore, Robertson, Rutherford, Smith, Sumner, Trousdale, Williamson, and Wilson Counties.

East Tennessee Zone—Anderson, Bledsoe, Bradley, Blount, Campbell, Carter, Claiborne, Clay, Cocke, Cumberland, DeKalb, Fentress, Grainger, Greene, Grundy, Hamblen, Hamilton, Hancock, Hawkins, Jackson, Jefferson, Johnson, Knox, Loudon, Marion, McMinn, Meigs, Monroe, Morgan, Overton, Pickett, Polk, Putnam, Rhea, Roane, Scott, Sequatchie, Sevier, Sullivan, Unicoi, Union, Van Buren, Warren, Washington , and White Counties.

Wisconsin

Early-Season Subzone A—That portion of the State encompassed by a line beginning at the intersection of U.S. Highway 141 and the Michigan border near Niagara, then south along U.S. 141 to State Highway 22, west and southwest along State 22 to U.S. 45, south along U.S. 45 to State 22, west and south along State 22 to State 110, south along State 110 to U.S. 10, south along U.S. 10 to State 49, south along State 49 to State 23, west along State 23 to State 73, south along State 73 to State 60, west along State 60 to State 23, south along State 23 to State 11, east along State 11 to State 78, then south along State 78 to the Illinois border.

Early-Season Subzone B—The remainder of the State.

Central Flyway

Kansas

September Canada Goose Kansas City/Topeka Unit—That part of Kansas bounded by a line from the Kansas-Missouri State line west on K-68 to its junction with K-33, then north on K-33 to its junction with US-56, then west on US-56 to its junction with K-31, then west-northwest on K-31 to its junction with K-99, then north on K-99 to its junction with US-24, then east on US-24 to its junction with K-63, then north on K-63 to its junction with K-16, then east on K-16 to its junction with K-116, then east on K-116 to its junction with US-59, then northeast on US-59 to its junction with the Kansas-Missouri line, then south on the Kansas-Missouri line to its junction with K-68.

September Canada Goose Wichita Unit—That part of Kansas bounded by a line from I-135 west on US 50 to its junction with Burmac Road, then south on Burmac Road to its junction with 279 Street West (Sedgwick/Harvey County line), then south on 279 Street West to its junction with K-96, then east on K-96 to its junction with K-296, then south on K-296 to its junction with 247 Street West, then south on 247 Street West to its junction with US-54, then west on US-54 to its junction with 263 Street West, then south on 263 Street West to its junction with K-49, then south on K-49 to its junction with 90 Avenue North, then east on 90 Avenue North to its junction with KS-55, then east on KS-55 to its junction with KS-15, then east on KS-15 to its junction with US-77, then north on US-77 to its junction with Ohio Street, then north on Ohio to its junction with KS-254, then east on KS-254 to its junction with KS-196, then northwest on KS-196 to its junction with I-135, then north on I-135 to its junction with US-50.

South Dakota

September Canada Goose North Unit—Clark, Codington, Day, Deuel, Grant, Hamlin, Marshall, and Roberts County.

September Canada Goose South Unit—Beadle, Brookings, Hanson, Kingsbury, Lake, Lincoln, McCook, Miner, Minnehaha, Moody, Sanborn, and Turner Counties,

Pacific Flyway

Idaho

East Zone—Bonneville, Caribou, Fremont, and Teton Counties.

Oregon

Northwest Zone—Benton, Clackamas, Clatsop, Columbia, Lane, Lincoln, Linn, Marion, Polk, Multnomah, Tillamook, Washington, and Yamhill Counties.

Southwest Zone—Coos, Curry, Douglas, Jackson, Josephine, and Klamath Counties.

East Zone—Baker, Gilliam, Malheur, Morrow, Sherman, Umatilla, Union, and Wasco Counties.

Washington

Area 1—Skagit, Island, and Snohomish Counties.

Area 2A (SW Quota Zone)—Clark County, except portions south of the Washougal River; Cowlitz, and Wahkiakum counties.

Area 2B (SW Quota Zone)—Pacific and Grays Harbor counties.

Area 3—All areas west of the Pacific Crest Trail and west of the Big White Salmon River which are not included in Areas 1, 2A and 2B.

Area 4—Adams, Benton, Chelan, Douglas, Franklin, Grant, Kittitas, Lincoln, Okanogan, Spokane, and Walla Walla Counties.

Area 5—All areas east of the Pacific Crest Trail and east of the Big White Salmon River which are not included in Area 4.

Wyoming

Bear River Area—That portion of Lincoln County described in State regulations.

Salt River Area—That portion of Lincoln County described in State regulations.

Farson-Eden Area—Those portions of Sweetwater and Sublette Counties described in State regulations.

Teton Area—Those portions of Teton County described in State regulations.

Bridger Valley Area—The area described as the Bridger Valley Hunt Unit in State regulations.

Ducks

Atlantic Flyway

New York

Lake Champlain Zone: The U.S. portion of Lake Champlain and that area east and north of a line extending along NY 9B from the Canadian border to U.S. 9, south along U.S. 9 to NY 22 south of Keesville; south along NY 22 to the west shore of South Bay, along and around the shoreline of South Bay to NY 22 on the east shore of South Bay; southeast along NY 22 to U.S. 4, northeast along U.S. 4 to the Vermont border.

Long Island Zone: That area consisting of Nassau County, Suffolk County, that area of Westchester County southeast of I-95, and their tidal waters.

Western Zone: That area west of a line extending from Lake Ontario east along the north shore of the Salmon River to I-81, and south along I-81 to the Pennsylvania border.

Northeastern Zone: That area north of a line extending from Lake Ontario east along the north shore of the Salmon River to I-81, south along I-81 to NY 49, east along NY 49 to NY 365, east along NY 365 to NY 28, east along NY 28 to NY 29, east along NY 29 to I-87, north along I-87 to U.S. 9 (at Exit 20), north along U.S. 9 to NY 149, east along NY 149 to U.S. 4, north along U.S. 4 to the Vermont border, exclusive of the Lake Champlain Zone.

Southeastern Zone: The remaining portion of New York.

Mississippi Flyway

Indiana

North Zone: That portion of the State north of a line extending east from the Illinois border along State Road 18 to U.S. Highway 31, north along U.S. 31 to U.S. 24, east along U.S. 24 to Huntington, then southeast along U.S. 224 to the Ohio border.

Ohio River Zone: That portion of the State south of a line extending east from the Illinois border along Interstate Highway 64 to New Albany, east along State Road 62 to State 56, east along State 56 to Vevay, east and north on State 156 along the Ohio River to North Landing, north along State 56 to U.S. Highway 50, then northeast along U.S. 50 to the Ohio border.

South Zone: That portion of the State between the North and Ohio River Zone boundaries.

Iowa

North Zone: That portion of the State north of a line extending east from the Nebraska border along State Highway 175 to State 37, southeast along State 37 to U.S. Highway 59, south along U.S. 59 to Interstate Highway 80, then east along I-80 to the Illinois border.

South Zone: The remainder of Iowa.

Central Flyway

Colorado

Special Teal Season Area: Lake and Chaffee Counties and that portion of the State east of a line extending east from the Wyoming border, south along U.S. 85 to I-76, south along I-76 to I-25, south along I-25 to the New Mexico border.

Kansas

High Plains Zone: That portion of the State west of U.S. 283.

Low Plains Early Zone: That portion of the State east of the High Plains Zone and west of a line extending south from the Nebraska border along KS 28 to U.S. 36, east along U.S. 36 to KS 199, south along KS 199 to Republic County Road 563, south along Republic County Road 563 to KS 148, east along KS 148 to Republic County Road 138, south along Republic County Road 138 to Cloud County Road 765, south along Cloud County Road 765 to KS 9, west along KS 9 to U.S. 24, west along U.S. 24 to U.S. 281, north along U.S. 281 to U.S. 36, west along U.S. 36 to U.S. 183, south along U.S. 183 to U.S. 24, west along U.S. 24 to KS 18, southeast along KS 18 to U.S. 183, south along U.S. 183 to KS 4, east along KS 4 to I-135, south along I-135 to KS 61, southwest along KS 61 to KS 96, northwest on KS 96 to U.S. 56, west along U.S. 56 to U.S. 281, south along U.S. 281 to U.S. 54, then west along U.S. 54 to U.S. 283.

Low Plains Late Zone: The remainder of Kansas.

Nebraska

Special Teal Season Area: That portion of the State south of a line beginning at the Wyoming State line; east along U.S. 26 to Nebraska Highway L62A; east to U.S. 385; south to U.S. 26; east to NE 92; east along NE 92 to NE 61; south along NE 61 to U.S. 30; east along U.S. 30 to the Iowa border.

New Mexico (Central Flyway Portion)

North Zone: That portion of the State north of I-40 and U.S. 54.

South Zone: The remainder of New Mexico.

Pacific Flyway

California

Northeastern Zone: That portion of the State east and north of a line beginning at the Oregon border; south and west along the Klamath River to the mouth of Shovel Creek; south along Shovel Creek to Forest Service Road 46N10; south and east along FS 46N10 to FS 45N22; west and south along FS 45N22 to U.S. 97 at Grass Lake Summit; south and west along U.S. 97 to I-5 at the town of Weed; south along I-5 to CA 89; east and south along CA 89 to the junction with CA 49; east and north on CA 49 to CA 70; east on CA 70 to U.S. 395; south and east on U.S. 395 to the Nevada border.

Colorado River Zone: Those portions of San Bernardino, Riverside, and Imperial Counties east of a line extending from the Nevada border south along U.S. 95 to Vidal Junction; south on a road known as “Aqueduct Road” in San Bernardino County through the town of Rice to the San Bernardino-Riverside County line; south on a road known in Riverside County as the “Desert Center to Rice Road” to the town of Desert Center; east 31 miles on I-10 to the Wiley Well Road; south on this road to Wiley Well; southeast along the Army-Milpitas Road to the Blythe, Brawley, Davis Lake intersections; south on the Blythe-Brawley paved road to the Ogilby and Tumco Mine Road; south on this road to U.S. 80; east 7 miles on U.S. 80 to the Andrade-Algodones Road; south on this paved road to the Mexican border at Algodones, Mexico.

Southern Zone: That portion of southern California (but excluding the Colorado River Zone) south and east of a line extending from the Pacific Ocean east along the Santa Maria River to CA 166 near the City of Santa Maria; east on CA 166 to CA 99; south on CA 99 to the crest of the Tehachapi Mountains at Tejon Pass; east and north along the crest of the Tehachapi Mountains to CA 178 at Walker Pass; east on CA 178 to U.S. 395 at the town of Inyokern; south on U.S. 395 to CA 58; east on CA 58 to I-15; east on I-15 to CA 127; north on CA 127 to the Nevada border.

Southern San Joaquin Valley Temporary Zone: All of Kings and Tulare Counties and that portion of Kern County north of the Southern Zone.

Balance-of-the-State Zone: The remainder of California not included in the Northeastern, Southern, and Colorado River Zones, and the Southern San Joaquin Valley Temporary Zone.

Canada Geese

Michigan

North Zone: The Upper Peninsula.

Middle Zone: That portion of the Lower Peninsula north of a line beginning at the Wisconsin border in Lake Michigan due west of the mouth of Stony Creek in Oceana County; then due east to, and easterly and southerly along the south shore of, Stony Creek to Scenic Drive, easterly and southerly along Scenic Drive to Stony Lake Road, easterly along Stony Lake and Garfield Roads to Michigan Highway 20, east along Michigan 20 to U.S. Highway 10 Business Route (BR) in the city of Midland, east along U.S. 10 BR to U.S. 10, east along U.S. 10 to Interstate Highway 75/U.S. Highway 23, north along I-75/U.S. 23 to the U.S. 23 exit at Standish, east along U.S. 23 to Shore Road in Arenac County, east along Shore Road to the tip of Point Lookout, then on a line directly east 10 miles into Saginaw Bay, and from that point on a line directly northeast to the Canada border.

South Zone: The remainder of Michigan.

Sandhill Cranes

Central Flyway

Colorado—The Central Flyway portion of the State except the San Luis Valley (Alamosa, Conejos, Costilla, Hinsdale, Mineral, Rio Grande, and Saguache Counties east of the Continental Divide) and North Park (Jackson County).

Kansas—That portion of the State west of a line beginning at the Oklahoma border, north on I-35 to Wichita, north on I-135 to Salina, and north on U.S. 81 to the Nebraska border.

New Mexico

Regular-Season Open Area—Chaves, Curry, De Baca, Eddy, Lea, Quay, and Roosevelt Counties.

Middle Rio Grande Valley Area—The Central Flyway portion of New Mexico in Socorro and Valencia Counties.

Estancia Valley Area—Those portions of Santa Fe, Torrance and Bernallilo Counties within an area bounded on the west by New Mexico Highway 55 beginning at Mountainair north to NM 337, north to NM 14, north to I-25; on the north by I-25 east to U.S. 285; on the east by U.S. 285 south to U.S. 60; and on the south by U.S. 60 from U.S. 285 west to NM 55 in Mountainair.

Southwest Zone—Sierra, Luna, Dona Ana Counties, and those portions of Grant and Hidalgo Counties south of I-25.

Oklahoma—That portion of the State west of I-35.

Texas

Area 1—That portion of the State west of a line beginning at the International Bridge at Laredo, north along I-35 to the Oklahoma border.

Area 2—That portion of the State east and south of a line from the International Bridge at Laredo northerly along I-35 to U.S. 290; southeasterly along U.S. 290 to I-45; south and east on I-45 to State Highway 87, south and east on TX 87 to the channel in the Gulf of Mexico between Galveston and Point Bolivar; EXCEPT: That portion of the State lying within the area bounded by the Corpus Christi Bay Causeway on U.S. 181 at Portland; north and west on U.S. 181 to U.S. 77 at Sinton; north and east along U.S. 77 to U.S. 87 at Victoria; east and south along U.S. 87 to Texas Highway 35; north and east on TX 35 to the west end of the Lavaca Bay Bridge; then south and east along the west shoreline of Lavaca Bay and Matagorda Island to the Gulf of Mexico; then south and west along the shoreline of the Gulf of Mexico to the Corpus Christi Bay Causeway.

North Dakota

Area 1—That portion of the State west of U.S. 281.

Area 2—That portion of the State east of U.S. 281.

South Dakota—That portion of the State west of U.S. 281.

Montana—The Central Flyway portion of the State except that area south of I-90 and west of the Bighorn River.

Wyoming

Regular-Season Open Area—Campbell, Converse, Crook, Goshen, Laramie, Niobrara, Platte, and Weston Counties.

Riverton-Boysen Unit—Portions of Fremont County.

Park and Big Horn County Unit—Portions of Park and Big Horn Counties.

Pacific Flyway

Arizona

Special-Season Area—Game Management Units 30A, 30B, 31, and 32.

Montana

Special-Season Area—See State regulations.

Utah

Special-Season Area—Rich and Cache Counties and that portion of Box Elder County beginning on the Utah-Idaho State line at the Box Elder-Cache County line; west on the State line to the Pocatello Valley County Road; south on the Pocatello Valley County Road to I-15; southeast on I-15 to SR-83; south on SR-83 to Lamp Junction; west and south on the Promontory Point County Road to the tip of Promontory Point; south from Promontory Point to the Box Elder-Weber County line; east on the Box Elder-Weber County line to the Box Elder-Cache County line; north on the Box Elder-Cache County line to the Utah-Idaho State line.

Wyoming

Bear River Area—That portion of Lincoln County described in State regulations.

Salt River Area—That portion of Lincoln County described in State regulations.

Eden-Farson Area—Those portions of Sweetwater and Sublette Counties described in State regulations.

All Migratory Game Birds in Alaska

North Zone—State Game Management Units 11-13 and 17-26.

Gulf Coast Zone—State Game Management Units 5-7, 9, 14-16, and 10 (Unimak Island only).

Southeast Zone—State Game Management Units 1-4.

Pribilof and Aleutian Islands Zone—State Game Management Unit 10 (except Unimak Island).

Kodiak Zone—State Game Management Unit 8.

All Migratory Birds in the Virgin Islands

Ruth Cay Closure Area—The island of Ruth Cay, just south of St. Croix.

All Migratory Birds in Puerto Rico

Municipality of Culebra Closure Area—All of the municipality of Culebra.

Desecheo Island Closure Area—All of Desecheo Island.

Mona Island Closure Area—All of Mona Island.

El Verde Closure Area—Those areas of the municipalities of Rio Grande and Loiza delineated as follows: (1) All lands between Routes 956 on the west and 186 on the east, from Route 3 on the north to the juncture of Routes 956 and 186 (Km 13.2) in the south; (2) all lands between Routes 186 and 966 from the juncture of 186 and 966 on the north, to the Caribbean National Forest Boundary on the south; (3) all lands lying west of Route 186 for 1 kilometer from the juncture of Routes 186 and 956 south to Km 6 on Route 186; (4) all lands within Km 14 and Km 6 on the west and the Caribbean National Forest Boundary on the east; and (5) all lands within the Caribbean National Forest Boundary whether private or public.

Cidra Municipality and adjacent areas—All of Cidra Municipality and portions of Aguas Buenas, Caguas, Cayey, and Comerio Municipalities as encompassed within the following boundary: beginning on Highway 172 as it leaves the municipality of Cidra on the west edge, north to Highway 156, east on Highway 156 to Highway 1, south on Highway 1 to Highway 765, south on Highway 765 to Highway 763, south on Highway 763 to the Rio Guavate, west along Rio Guavate to Highway 1, southwest on Highway 1 to Highway 14, west on Highway 14 to Highway 729, north on Highway 729 to Cidra Municipality boundary to the point of the beginning.

BILLING CODE 4310-55-P

[FR Doc. 01-18366 Filed 7-23-01; 8:45 am]

BILLING CODE 4310-55-C